ENVIRONMENTAL PROTECTION AGENCY

40 CFR Part 63

[FRL-7214-8]

RIN 2060-AH11

National Emission Standards for Hazardous Air Pollutants: Cellulose Products Manufacturing

AGENCY: Environmental Protection Agency (EPA).

ACTION: Final rule.

SUMMARY: This action promulgates national emission standards for hazardous air pollutants (NESHAP) for cellulose products manufacturing. Cellulose products manufacturing includes both the Miscellaneous Viscose Processes source category and the Cellulose Ethers Production source category. The Miscellaneous Viscose Processes source category comprises the cellulose food casing, rayon, cellulosic sponge, and cellophane manufacturing industries. The Cellulose Ethers Production source category comprises the methyl cellulose, hydroxypropyl methyl cellulose, hydroxypropyl cellulose, hydroxyethyl cellulose, and carboxymethyl cellulose manufacturing industries. The EPA has identified the Miscellaneous Viscose Processes source category and the Cellulose Ethers Production source category as including major sources of emissions of hazardous air pollutants (HAP), such as carbon disulfide (CS2), carbonyl sulfide, ethylene oxide, methanol, methyl chloride, propylene oxide, and toluene. The final rule will implement section 112(d) of the Clean Air Act (CAA) by requiring all major sources to meet HAP emission standards reflecting the application of the maximum achievable control technology (MACT). The final rule will reduce HAP emissions by approximately 1,600 megagrams per year (Mg/yr) (1,700 tons per year (tpy)). In addition, the final rule will reduce hydrogen sulfide (H2S) emissions by approximately 410 Mg/yr (450 tpy).

EFFECTIVE DATE: June 11, 2002.

ADDRESSES: Docket No. A-99-39 contains supporting information used in developing the promulgated standards. The docket is available for public inspection between 8:30 a.m. and 5:30 p.m., Monday through Friday, excluding Federal holidays, at the following address: U.S. EPA, Air and Radiation Docket and Information Center (6102), 401 M Street SW., Washington, DC 20460, telephone number (202) 260-7548. The docket is located at the above address in room M-1500, Waterside Mall (ground floor). A reasonable fee may be charged for copying docket materials.

FOR FURTHER INFORMATION CONTACT: For further information concerning applicability and rule determinations, contact the appropriate State or local agency representative. If no State or local representative is available, contact the EPA Regional Office staff listed in 40 CFR 63.13. For information concerning the analyses performed in developing this rule, contact Mr. William Schrock, U.S. EPA, Office of Air Quality Planning and Standards, Organic Chemicals Group (Mail Code C504-04), Research Triangle Park, North Carolina 27711, telephone number (919) 541-5032, facsimile number (919) 541-3470, electronic mail address schrock.bill@epa.gov.

SUPPLEMENTARY INFORMATION: Regulated Entities. Categories and entities potentially regulated by this action include those listed in the following table.

Category | NAICS code | Examples of regulated entities . . .
Industry | 326121 | cellulose food casing operations.
| 325221 | rayon operations.
| 326199, 325211 | cellulosic sponge operations.
| 326199 | cellophane operations.
| 325199 | cellulose ether operations.

This table is not intended to be exhaustive, but rather provides a guide for readers regarding entities likely to be regulated by this action. To determine whether your operation is regulated by this action, you should examine the applicability criteria in § 63.5481 of the final rule. If you have any questions regarding the applicability of this action to a particular entity, consult the person listed in the preceding FOR FURTHER INFORMATION CONTACT section.

Judicial Review. The NESHAP for cellulose products manufacturing was proposed on August 28, 2000 (65 FR 52166). Today's action announces EPA's final decisions on the rule. Under section 307(b)(1) of the CAA, judicial review of the final rule is available by filing a petition for review in the U.S. Court of Appeals for the District of Columbia Circuit by August 12, 2002. Only those objections to the rule which were raised with reasonable specificity during the period for public comment may be raised during judicial review. Under section 307(b)(2) of the CAA, the requirements that are the subject of today's final rule may not be challenged later in civil or criminal proceedings brought by EPA to enforce these requirements. World Wide Web (WWW). In addition to being available in the docket, an electronic copy of today's final rule will also be available on the WWW through the Technology Transfer Network (TTN). Following the Administrator's signature, a copy of the rule will be posted on the TTN's policy and guidance page for newly proposed or final rules at http://www.epa.gov/ttn/oarpg/t3pfpr.html. The TTN provides information and technology exchange in various areas of air pollution control. If more information regarding the TTN is needed, call the TTN Help Line at (919) 541-5384. Outline. The information presented in this preamble is organized as follows:

I. Background and Public Participation

II. Summary of Major Changes Since Proposal

A. All Affected Sources

B. Viscose Process Affected Sources

C. Cellulose Ether Affected Sources

III. Summary of Responses to Major Comments

A. Emission Limits, Operating Limits, and Work Practice Standards

B. Testing and Initial Compliance Requirements

C. Continuous Compliance Requirements

D. Notifications and Reports

IV. Summary of Impacts

A. Air Quality Impacts

B. Cost Impacts

C. Economic Impacts

D. Non-Air Environmental Impacts

E. Energy Impacts

V. Administrative Requirements

A. Executive Order 12866, Regulatory Planning and Review

B. Executive Order 13132, Federalism

C. Executive Order 13175, Consultation and Coordination with Indian Tribal Governments

D. Executive Order 13045, Protection of Children from Environmental Health Risks and Safety Risks

E. Executive Order 13211, Actions Concerning Regulations that Significantly Affect Energy Supply, Distribution, or Use

F. Unfunded Mandates Reform Act of 1995

G. Regulatory Flexibility Act (RFA), as Amended by the Small Business Regulatory Enforcement Fairness Act of 1996 (SBREFA), 5 U.S.C. 601 et seq.

H. Paperwork Reduction Act

I. National Technology Transfer and Advancement Act of 1995

J. Congressional Review Act

I. Background and Public Participation

Section 112 of the CAA requires us to list categories and subcategories of major sources and area sources of HAP and to establish NESHAP for the listed source categories and subcategories. A major source of HAP is any stationary source or group of stationary sources located within a contiguous area and under common control that emits or has the potential to emit any single HAP at a rate of 9.1 Mg/yr (10 tpy) or more or any combination of HAP at a rate of 23 Mg/yr (25 tpy) or more.

Section 112 of the CAA requires that we establish NESHAP for the control of HAP from both new and existing major sources. The CAA requires the NESHAP to reflect the maximum degree of reduction in emissions of HAP that is achievable. This level of control is commonly referred to as MACT.

The MACT floor is the minimum control level allowed for NESHAP and is defined under section 112(d)(3) of the CAA. In essence, the MACT floor ensures that the standard is set at a level that assures that all major sources achieve the level of control at least as stringent as that already achieved by the better-controlled and lower-emitting sources in each source category or subcategory. For new sources, the MACT floor cannot be less stringent than the emission control that is achieved in practice by the best-controlled similar source. The MACT standards for existing sources can be less stringent than standards for new sources, but they cannot be less stringent than the average emission limitation achieved by the best-performing 12 percent of existing sources in the category or subcategory (or the best-performing five sources for categories or subcategories with fewer than 30 sources).

In developing MACT, we also consider control options that are more stringent than the floor. We may establish standards more stringent than the floor based on the consideration of cost of achieving the emissions reductions, any non-air quality health and environmental impacts, and energy requirements.

On July 16, 1992 (57 FR 31576), we published an initial list of source categories slated for regulation under section 112(c) of the CAA. That initial list included the Cellulose Food Casings, Rayon, Cellophane, Methyl Cellulose, Carboxymethyl Cellulose, and Cellulose Ethers Production source categories. The Cellulose Ethers Production source category on the initial list included the hydroxyethyl cellulose, hydroxypropyl cellulose, and hydroxypropyl methyl cellulose manufacturing industries.

In developing the proposed rule for cellulose products manufacturing, we identified another cellulose products manufacturing industry, cellulosic sponge manufacturing, that was not on the initial source category list. We added Cellulosic Sponges to the source category list on November 18, 1999 (64 FR 63026) in accordance with section 112(c) of the CAA.

We proposed the standards for cellulose products manufacturing on August 28, 2000 (65 FR 52166). In the proposal, we combined the various cellulose products manufacturing source categories on the initial source category list with the Cellulosic Sponge source category to create two new source categories. Specifically, we combined the existing Cellulose Food Casing, Rayon, Cellulosic Sponge, and Cellophane source categories to create a new source category which is called “Miscellaneous Viscose Processes.” We combined the existing Methyl Cellulose, Carboxymethyl Cellulose, and Cellulose Ethers Production source categories to create a newly expanded “Cellulose Ethers Production” source category. On February 12, 2002 (67 FR 6521), we published an updated source category list that includes the Miscellaneous Viscose Processes and Cellulose Ethers Production source categories.

As in the proposal, the final standards for cellulose products manufacturing give most existing sources 3 years from the date of promulgation to comply. The final standards also give existing rayon operations 8 years from the date of promulgation to comply with the 40 percent reduction emission limit for their viscose process vents. Sources that begin construction or reconstruction after August 28, 2000 must comply with the standards for new sources by June 11, 2002 or upon startup, whichever is later.

Emission limits, operating limits, and work practice standards, as well as initial and continuous compliance requirements, and notification, reporting, and recordkeeping requirements are included in the final rule. All of these components are necessary to ensure that sources comply with the standards both initially and over time. However, we have made every effort to simplify the requirements in the rule.

The preamble for the proposed standards described the rationale for the proposed standards. Public comments were solicited at the time of proposal. The public comment period lasted from August 28, 2000 to October 27, 2000. Industry representatives, regulatory agencies, environmental groups, and the general public were given the opportunity to comment on the proposed rule and to provide additional information during and after the public comment period. Although we offered at proposal the opportunity for oral presentation of data, views, or arguments concerning the proposed rule, no one requested a hearing, and a hearing was not held.

We received a total of 23 letters containing comments on the proposed rule during and after the public comment period. Commenters included individual cellulose products manufacturing companies, industry trade associations, and an association of State and local regulatory agencies. Today's final rule reflects our full consideration of all of the comments received. Major public comments on the proposed rule, along with our responses to those comments, are summarized in this preamble. See the Summary of Public Comments and Responses memorandum for a more detailed discussion of public comments and our responses (Docket No. A-99-39).

II. Summary of Major Changes Since Proposal

The major changes made to the proposed rule based on public comments are described in the sections below. A more comprehensive summary of changes can be found in Docket No. A-99-39.

A. All Affected Sources

In today's final rule, we have added an exemption for research and development facilities. We have revised the definition for “process vent” to include exemptions for small vents with very low concentrations and flow rates. We have added a section that discusses the overlap between the requirements of the final rule and the requirements of other rules.

We have added definitions for “process unit” and revised definitions for “operation” for the various viscose process and cellulose ether industries to provide greater clarification of what is covered under the final rule. Each process unit includes all equipment used to manufacture the respective products and any associated storage vessels, liquid streams in open systems, and equipment components. Each operation includes the collection of the respective process units and other equipment, including heat exchanger systems, wastewater and waste management units, and cooling towers.

Consistent with the revised definitions for “operation” for the various viscose process and cellulose ether industries, we have adopted work practice standards for heat exchanger systems from 40 CFR 63.104. For all affected sources with a closed-vent system containing a bypass line that could divert a vent stream away from a control device, we have adopted work practice standards for bypass lines from 40 CFR 63.148. In order to provide this exemption, we have adopted the related work practice standards for closed-vent systems from 40 CFR 63.148. We have also adopted the applicable initial and continuous compliance provisions, reporting and recordkeeping provisions, and definitions associated with heat exchanger systems, bypass lines, and closed-vent systems from 40 CFR part 63, subparts F and G of the Hazardous Organic NESHAP (HON).

We have reduced the number of biofilter operating limits to three (pressure drop, inlet gas temperature, and effluent pH), which would be less burdensome and more easily measurable than the eight operating limits at proposal. We have also added alternative parameters for condensers (outlet liquid temperature) and scrubbers (conductivity and alkalinity).

We have clarified the proposed performance test requirements to require that all affected sources conducting a performance test only test the inlet and outlet of their control device. We are not requiring sources to test their uncontrolled stacks. We have revised the batch process vent testing provisions, replacing the worst-case testing provisions adopted from 40 CFR 63.1257 with alternative testing provisions adopted from 40 CFR 63.490. We have added two voluntary consensus standards as alternatives to EPA Methods 3B and 18. We have added performance test exemptions for boilers, process heaters, and hazardous waste incinerators that meet certain conditions specified in the final rule. We have clarified the initial compliance requirements to state that sources are not required to conduct a performance test to determine the flare control efficiency, based on the assumption that a properly operated flare will achieve an emission reduction of 98 percent.

We have changed the deadline for conducting the initial compliance demonstration from 180 days before to 180 days after the compliance date. To enable affected sources to demonstrate compliance between the compliance date and the date of the initial compliance demonstration, we have added a provision requiring sources to maintain an operation and maintenance (O&M) log of the process and emissions control equipment during this period.

We have adopted the methods in 40 CFR 63.505 for determining operating limits to allow sources to establish operating limits for batch process vents based on the average of all values obtained during the compliance demonstration and to establish operating limits for continuous process vents (and combined batch and continuous process vents) based on the average of the maximum (or minimum) values of the parameter.

For those sources that decide to use continuous emissions monitoring systems (CEMS) to demonstrate compliance, we have added CEMS performance specifications, recordkeeping and reporting provisions, and monitoring installation, operation, and maintenance provisions. We have replaced the proposed requirement for 3-hour averages of recorded readings with daily averages. We have changed the proposed data availability requirement for valid hourly data from 66 percent of every averaging period (e.g., two valid hourly values for a 3-hour averaging period) to 75 percent of the hours during an operating day. A valid hour of data means that sources must have data for all 15-minute periods that were not excluded for no flow.

We have revised the submittal date for the notification of compliance status (NOCS) report to require that it be submitted 240 days after the compliance date, rather than 60 days after completion of the initial performance test or 30 days after completion of the initial compliance demonstration. In this way, if sources conduct more than one test or other compliance demonstration, they would not have to submit multiple NOCS reports at different times.

We have also replaced the requirement that sources submit immediate startup, shutdown, and malfunction (SSM) reports if they take actions inconsistent with this SSM plan. Now, sources must submit those reports with the next semiannual compliance report.

We have extended the report filing deadline for semiannual compliance reports from 30 to 60 days after the end of the compliance period, consistent with 40 CFR part 63, subpart G HON, because some sources are subject to several NESHAP.

B. Viscose Process Affected Sources

We have revised the proposed 55 percent reduction emission limit for viscose process vents at existing rayon operations. In today's final rule, we are requiring existing rayon operations to meet a two-stage emission reduction requirement—35 percent reduction within 3 years after the effective date and 40 percent reduction within 8 years after the effective date. We have revised the compliance dates for existing rayon operations accordingly. We have also revised the proposed 85 percent reduction emission limit for viscose process vents at cellophane operations. In today's final rule, we are requiring cellophane operations to meet a 75 percent reduction emission limit.

We have added a fourth alternative standard for CS2 unloading and storage operations that allows affected sources to comply by installing a nitrogen unloading system and obtaining a 0.045 percent reduction from viscose process vents. We have also added initial and continuous compliance provisions and recordkeeping provisions that correspond to this alternative. We have clarified that the 83 percent reduction emission limit, and the corresponding initial and continuous compliance provisions, for CS2 unloading and storage operations apply to affected sources using an alternative control technique not listed in the final rule.

We have revised the initial compliance demonstration requirements to require viscose process affected sources to conduct a month-long compliance demonstration to demonstrate initial compliance, as opposed to the 3-hour performance test specified at proposal. The sources would report the results of the initial compliance demonstration in the NOCS report and keep records of the initial compliance demonstration. The sources would also establish their operating limits over the period of the month-long compliance demonstration.

Affected sources that use recovery devices and/or process changes to meet the applicable emission limit would demonstrate initial compliance during the month-long compliance demonstration using information on raw material receipts, measured CS2 recovered, etc., in their material balance calculations to determine their overall percent reduction in emissions. No recovery device testing would be necessary.

Affected sources that must use non-recovery control devices to meet the applicable emission limit would be required to conduct a performance test to determine the control efficiency of their non-recovery control device. The sources would incorporate this control efficiency information into their material balance calculations, which they would use during the month-long compliance demonstration to determine their overall percent reduction in emissions.

C. Cellulose Ether Affected Sources

In today's final rule, we have revised the definition for “cellulose ether process” to specifically exclude solids handling steps downstream of the drying process. We have replaced 40 CFR part 65, subpart F (Consolidated Air Rule), with 40 CFR part 63, subpart UU (Generic MACT NESHAP), as an alternative to 40 CFR part 63, subpart H (HON), for equipment leak provisions. We have added work practice standards for maintenance wastewater from 40 CFR 63.105 and liquid streams in open systems from 40 CFR 63.149. We have also adopted the applicability provisions, initial and continuous compliance provisions, reporting and recordkeeping provisions, and definitions associated with equipment leaks, wastewater, and liquid streams in open systems from 40 CFR part 63, subparts F, G, and H of the HON.

We have eliminated the proposed requirement for cellulose ether affected sources to demonstrate continuous compliance by complying with an ongoing 99 percent reduction determination. However, these sources must still comply with the applicable operating limits to demonstrate continuous compliance. We have added initial and continuous compliance requirements and recordkeeping requirements for sources using extended cookout to comply with the 99 percent reduction emission limit. We have added a voluntary consensus standard as an alternative to EPA Method 624.

III. Summary of Responses to Major Comments

This section summarizes major comments we received on the proposed rule and our responses to those comments. Only those major comments that resulted in an appreciable change to the proposed rule are included. A more comprehensive summary of comments and responses can be found in Docket No. A-99-39.

A. Emission Limits, Operating Limits, and Work Practice Standards

Comment: One commenter did not support the process vent MACT floor for rayon operations (55 percent reduction). The commenter stated that selecting the highest CS2 recovery operation as the MACT floor is not appropriate because both rayon operations have control equipment in place. The commenter stated that the fairest, most equitable approach would be to average the 25 and 55 percent control levels of the two rayon operations, resulting in an average 40 percent MACT floor control level which the commenter felt their rayon operation could meet with available technology. The commenter estimated that, because of their fragile business environment, a 35 percent reduction is the maximum that their rayon operation could achieve in the next 3 years, and they requested an additional 5 years (8 years total) to make the additional investment to meet a 40 percent MACT floor control level.

Response: Due to the shutdown of the MACT floor rayon operation, the commenter's lesser-controlled rayon operation is the only remaining rayon operation in the United States. Because the shutdown occurred after proposal, we have the option of keeping the current 55 percent reduction as the MACT floor or establishing a less stringent MACT floor. In light of the shutdown of the only other rayon operation providing information regarding available control technology, we have decided to establish a less stringent MACT floor (40 percent), which the commenter stated would be achievable with available technology. This less stringent MACT floor is higher than the 25 percent control level achieved by the commenter's rayon operation at proposal. Based on the information provided by the commenter, we have decided to implement a staged reduction strategy to facilitate the remaining rayon operation's achieving the 40 percent MACT floor control level. In today's final rule, we are requiring the remaining rayon operation to achieve a 35 percent reduction by 3 years after the effective date and achieve a 40 percent reduction 5 years later (8 years after the effective date).

Comment: One commenter stated that the 85 percent MACT floor control rate for viscose process vents at cellophane operations is overstated. The commenter stated that because theirs is the only cellophane operation in the United States, the MACT floors for the cellophane industry should be based on the information that they submitted and should reflect their source's current operational status. The commenter noted that the 85 percent control rate was based on information that they submitted in their response to EPA's section 114 information collection request (ICR), and their company had been operating the cellophane operation for only a few months when the ICR was issued. The commenter stated that they did not have long-term data on sulfide control rates or operational parameters at the time, so they determined the sulfide control rate for their section 114 ICR response using annualized engineering estimates based on their best estimate of actual operating conditions at the source. Based on new data, which they provided to EPA, the commenter calculated that their cellophane operation actually controls approximately 75 to 80 percent of total uncontrolled sulfide emissions. The commenter recommended that the MACT floor control rate be reduced to 75 percent to accurately reflect their source's current operational status, taking into account variability in the emission control rate.

Response: We agree with the commenter that the proposed MACT floor control rate is overstated. We have examined the corroborating data provided by the commenter, agree with the findings, and have revised the process vent MACT floor and emission limit for the cellophane industry to require 75 percent control of sulfide emissions.

Comment: Two commenters noted that, in establishing MACT standards for CS2 unloading and storage operations, EPA failed to address the situation in which a nitrogen control system includes CS2 unloading but not CS2 storage. One of the commenters requested that EPA add a fourth compliance option to account for this situation and allow the reduction of emissions from the process vents by the appropriate amount. The commenter noted that their source has installed a nitrogen system for CS2 unloading but is keeping the existing water system for CS2 storage. The commenter stated that EPA should provide appropriate credit for this nitrogen unloading system. Analyses by the commenter on the amount of CS2 emitted from their storage tanks during tank car unloading suggested that the additional reduction of emissions from the process vents should be 0.045 percent.

Response: We agree with the request from the commenter for a fourth alternative for sources with nitrogen unloading but no nitrogen padding for CS2 storage. The fourth alternative requires affected sources to install a nitrogen unloading system and reduce emissions from process vents by 0.045 percent, which, based on the commenter's data, is equivalent to the emission reduction achieved by converting from water padding to nitrogen padding for CS2 storage.

B. Testing and Initial Compliance Requirements

Comment: Several commenters from the viscose process industry objected to the initial performance testing requirements in the proposed rule. Pointing out that their operations have multiple stacks, process vents, and control devices, the commenters stated that performing tests on all of these simultaneously would be impractical and expensive. Commenters noted that the low flow and high humidity typical of viscose process vents would make it difficult to obtain a flow sufficient for testing. Commenters also pointed out that EPA's testing approach would yield a highly concentrated CS2 emission stream, but EPA's test method (EPA Method 15 in Appendix A of 40 CFR part 60) is designed for relatively low pollutant concentrations. One commenter stated that the inlet/outlet testing approach is irrelevant where the entire operation serves as the control device, and CS2 is being removed throughout the process. Commenters also stated that the initial performance testing requirements in the proposed rule would be dangerous to implement. They pointed out that EPA Method 15 would require drilling holes and inserting a heated probe into the lines before and after the control device; these procedures would allow leakage of air into the system and invite the risk of fire and explosion because of CS2's wide flammable range, very low autoignition temperature, and very low autoignition energy.

Three commenters indicated that the initial performance testing requirements are also inconsistent with the material balance approach which is the method EPA used to establish the cellulose MACT standards and the required method for viscose process affected sources to demonstrate ongoing compliance with the cellulose MACT standards. The commenter stated that it would make sense to require the demonstration of initial compliance to be on the same basis as the demonstration of ongoing compliance.

Two commenters stated that it would also be difficult to get a meaningful range of monitoring parameter values from three short tests. One of the commenters stated that monitoring parameter values should be established based on data from performance tests conducted over a longer period, such as 1 month. The two commenters stated that a longer test period is necessary, particularly since continuous compliance with the various percent emission reduction requirements in the rule is based on a 6-month rolling average.

Response: We acknowledge that the initial compliance requirements should be revised for greater clarity. For today's final rule, we are requiring viscose process affected sources to demonstrate their initial compliance with the applicable percent reduction emission limit by conducting a month-long compliance demonstration using a material balance for their sources. This approach is consistent with the material balance approach presented by the commenters. This material balance requirement would not apply to cellulose ether affected sources. For those viscose process affected sources that use recovery devices (e.g., carbon adsorbers, condensers, or oil absorbers) and/or process changes to meet the applicable emission limit, initial compliance would be demonstrated during the month-long compliance demonstration with material balance calculations using raw material receipts, measured CS2 recovered, etc. No recovery device testing would be necessary. For those viscose process affected sources that must use non-recovery control devices (e.g., biofilters, flares, scrubbers, or thermal oxidizers) to meet the applicable emission limit, testing would be required at the inlet and outlet of the non-recovery control devices to determine the control efficiency of the non-recovery control devices. Testing would not be required at uncontrolled stacks. The viscose process affected sources would incorporate the control efficiency information from the performance test into their material balance calculations, which they would then use during the month-long compliance demonstration to determine their overall percent reduction in emissions.

We disagree with the commenters' assumption that they would need to test everything at their operations simultaneously. We also disagree with the commenters' assertions that EPA Method 15 cannot be used on viscose process streams because of the high concentration of CS2 in the streams. Sources should be able to simply dilute the emission stream sample prior to the analysis. Regarding the commenters' other concerns about using EPA Method 15, viscose process affected sources are not limited to using EPA Method 15 to measure the emissions at the inlet and outlet of the control device. Sources are being given the option to use an EPA-approved alternative test method or emissions monitoring devices such as CEMS to measure the inlet and outlet emissions and determine the control efficiency.

Comment: Three commenters questioned EPA's use of provisions from 40 CFR part 63, subpart GGG (Pharmaceuticals NESHAP) regarding worst-case testing conditions for batch process vents. Noting that this requirement applies only to vents with control devices, two of the commenters argued that the concept of a worst-case scenario is not appropriate for the viscose process industries, where the vents are uncontrolled. One of these two commenters also noted that, because CS2 is emitted during only certain portions of the production cycle, the worst-case emission scenario lasts only for a matter of minutes, so extrapolating from this scenario would result in a very elevated, artificial emission level. The two commenters stated that measuring the total amount of HAP emitted over a cycle is the only appropriate way to measure CS2 emissions from viscose process vents, rather than some artificial worst-case scenario. According to one of the commenters, variations inherent in the viscose process make it impossible to identify a representative cycle in advance, but these variations could be accounted for more effectively over a longer period, such as a month-long compliance determination.

A third commenter stated that in order to generate the absolute worst-case conditions required under 40 CFR part 63, subpart GGG, they would have to change the way their processes run, which could include running at maximum production rates, making the highest-HAP recipe, or changing process variables to generate the highest-HAP emission stream. According to the commenter, these situations could result in substantial amounts of unordered or off-spec product, causing severe financial hardship as well as environmental impacts from the disposal of the unwanted product and the artificially increased HAP emissions from performing the test. Finally, putting their equipment under unusual stress could result in expensive breakdowns or even hazards to safety or the environment. As one alternative, the commenter suggested that EPA defer entirely to 40 CFR part 63, subpart U (Group I Polymers and Resins (P&R I) NESHAP) or subpart JJJ (Group IV Polymers and Resins (P&R IV) NESHAP) for all batch process vent testing requirements. The commenter stated that these provisions would still require them to conduct the test during the most rigorous conditions but would not damage their equipment or make unwanted products.

Response: In response to the various comments, we have decided to replace the worst-case testing provisions in 40 CFR part 63, subpart GGG (Pharmaceuticals NESHAP), with alternative batch process vent testing provisions in 40 CFR part 63, subpart U (P&R I NESHAP). Similar to the approach in subpart GGG, this approach would still require industry to conduct the performance test during the most rigorous conditions. This change should address the concerns voiced by all of the commenters.

As we have already noted in another response, viscose process affected sources that use recovery devices and/or process changes to meet the applicable emission limit would demonstrate initial compliance during the month-long compliance demonstration with material balance calculations, using information about raw material receipts, measured CS2 recovered, etc. No recovery device testing would be necessary.

Comment: Several commenters stated that the testing requirements during the initial compliance demonstration create problems with establishing operating limits. Two of the commenters (viscose process operations) stated that it would not be possible to determine suitable ranges for the operating limits during only 3 hours of testing in the initial performance test. One commenter stated that operating limits should be determined over a variety of operating scenarios in order to define the boundaries of monitoring parameter values upon which to demonstrate compliance. The other commenter stated that a test conducted over a longer period, such as 1 month, using their operation's proposed material balance method, would identify the full acceptable range of parameter values to monitor.

A third commenter (a cellulose ether operation) recommended that a minimum or maximum operating limit be established based on the monitoring parameter values measured during the performance test and extended beyond those values if it can be demonstrated by engineering assessments and/or manufacturer's recommendations that the unit will still meet the proposed standard. The commenter stated that performance testing should not be required to be conducted over the source's entire operational range. The commenter also stated that affected sources would have a very narrow window of compliance if monitored parameter data are collected during “normal” operating conditions and further “normalized” by averaging all the data points. The commenter stated that it must be clear that all data points measured during the performance test are acceptable. The commenter also stated that the source should not be required to retest every time there is some normal variation in production relative to the conditions of the initial performance test.

Response: In response to the first two commenters (viscose process operations), we have decided to revise the cellulose rule to allow viscose process affected sources to establish their operating limits over the month-long initial compliance demonstration, which should provide the sources sufficient time to establish their operating limits.

In response to one comment by the third commenter (a cellulose ether operation), we have decided to revise the procedures for determining operating limits consistent with the approach taken in 40 CFR part 63, subpart U (P&R I NESHAP). For batch process vents, we are requiring that sources establish the operating limit based on the average of all monitoring values obtained during the performance test (or month-long compliance demonstration for viscose process affected sources), consistent with the approach in 40 CFR 63.505(b)(3). For continuous process vents, we are requiring that the sources establish the operating limit based on the average of the maximum (or minimum) values of the monitoring parameter for the three test runs (or daily averages during the compliance demonstration for viscose process affected sources), consistent with the approach in 40 CFR 63.505(b)(2). If sources combine their batch and continuous process vents, we are requiring that they establish their operating limit using the continuous process vent approach.

In response to another comment by the third commenter, testing would not be required over their source's entire operational range. We disagree with the third commenter's suggestion to supplement or extend the values from the test as in the HON. The HON was written that way because we were trying to have the owner/operator justify a range, not establish a limit. We have also clarified that affected sources would establish what are considered “normal” operating conditions for continuous operation during the initial performance test. The sources would then be required to meet the operating limits established during the initial performance test.

Comment: Several commenters objected to the proposed requirement for sources to conduct the initial performance test at least 180 days before the compliance date. Commenters argued that EPA had provided no justification, as required, for this deviation from EPA's past practice. With the notification of performance test due at least 60 days before the performance test, commenters stated that this would require sources to start preparing for the performance test 240 to 360 days prior to the compliance date in order to be confident that the test can be passed. Two commenters noted that requests for an alternative monitoring method may have to occur even earlier, making it unrealistic for an affected source to apply for EPA approval to use the alternative method because of insufficient time to obtain EPA approval and purchase and install the alternative equipment. One commenter stated that it makes more technical sense to conduct a performance test after the unit is required to be in compliance rather than before. Therefore, the commenters recommended that EPA revise the deadline for performance testing consistent with 40 CFR 63.7(a), which requires an initial performance test be conducted within 180 days after the compliance date.

Response: Based on these comments, we have decided to revise the proposed requirement and allow sources to complete their performance test or other initial compliance demonstration no later than 180 days after the compliance date. Our intention for requiring the earlier date was to ensure that sources would be in compliance by the compliance date and allow sources to avoid severe penalties for noncompliance if they found themselves out of compliance based on a test conducted 180 days after the compliance date. To ensure that a record of compliance is kept between the compliance date and the date that operating limits are set (i.e., date of the performance test or other initial compliance demonstration), today's final rule also requires sources to maintain an O&M log of the process and emissions control equipment during this period.

C. Continuous Compliance Requirements

Comment: One commenter suggested that EPA allow outlet liquid temperature as an alternative operating limit to outlet gas temperature for condensers, stating that this variable is directly related to outlet gas temperature and is the control point for changing air temperature. Noting that the pH of caustic liquids used in a wet scrubber may be on the extreme end of the pH scale, a second commenter suggested that EPA allow either a pH or conductivity measuring device for determining compliance with the operating limit for wet scrubbers. A third commenter stated that their operation measures the available alkalinity, not the pH, in the circulating system for their wet scrubbers, and stated that pH meters would not be as reliable as the current system. A fourth commenter stated that liquid flow rate and pressure drop measurements do not always indicate the required wet scrubber performance. The commenter stated that it is possible for a scrubber to meet required control efficiencies and still sustain a pressure or liquid flow reduction. The commenter noted that other parameters, such as adequate pack height and liquid distribution, are technically more accurate indicators of scrubber performance.

Response: In response to these comments, we have revised the proposed requirements to include some of the additional parameters requested by commenters (i.e., condenser liquid outlet temperature for condensers and conductivity and alkalinity for wet scrubbers). However, we have not added adequate pack height and liquid distribution as additional wet scrubber parameters because we are not convinced that they are good parameters. Adequate pack height is a characteristic of the control device, not the kind of parameter that could be monitored continuously, and liquid distribution is a difficult type of parameter to monitor. Nonetheless, sources have the option under the rule to apply to the Administrator for approval to use alternative parameters.

Comment: One commenter stated that the proposed rule lacks the following essential provisions, developed for other MACT standards, regarding the proper use of parameter monitoring data for purposes of enforcement: (1) Specify that excursions violate an operating limit, not an emission limit; (2) base excursions on a 24-hour daily average to account for short-term fluctuations, which typically self-correct so that the daily average reading is normal; (3) allow a number of excused excursions in each semiannual reporting period to account for periods when something goes wrong despite how carefully an emission control device is designed, operated, and maintained (according to the commenter, without excused excursions, sources would be unable to ensure compliance); (4) exclude data from certain periods (e.g., startups, shutdowns, malfunctions, calibrations, periods of nonoperation of all or part of the process) from daily averages because those data are of questionable validity; (5) require no monitoring when the process is shut down and there are no emissions, and, if sources do monitor, specify that the data do not constitute an excursion; (6) specify that only one excursion will be assigned if two or more parameters go beyond their limits at the same time for the same control device; (7) clearly define what constitutes an excursion; and (8) specify that some limited percentage of data points can be missing or fail to meet applicable criteria without that being an excursion.

The commenter requested that EPA revise the data availability requirement to match 40 CFR part 63, subpart G (HON), for continuous vents and wastewater vents and 40 CFR part 63, subpart U (P&R I NESHAP) or subpart JJJ (P&R IV NESHAP), for batch vents and storage vessel vents. The commenter noted that because the daily average in 40 CFR part 63, subpart G, is based on having valid data points for 75 percent of the operating day, the actual operating day for a batch process could be adjusted for periods when the unit was not operating or not sending vents to the control device. The commenter contrasted this with the 3-hour averages required in the proposed rule, which may or may not coincide accurately with the operational time of a batch process.

In separate comments, two other commenters recommended that EPA insert data availability language similar to 40 CFR 60.48b(f) (Performance Standard for Industrial-Commercial-Institutional Steam Generating Units). According to the commenters, this subpart requires that data must be available for a minimum of 75 percent of the operating hours for each control device operating day in at least 22 out of 30 successive control device operating days. The commenters stated that this change would allow EPA to account for the realities of operating computerized systems, which require periodic backup and occasionally break down and cannot be repaired in 1 hour in order to comply with the proposed 66 percent data availability requirement (e.g., two valid hourly values for a 3-hour averaging period).

Response: Regarding the first requested provision, the proposed rule does not link deviations in operating limits with violations of emission limits.

Regarding the second provision, the concept of a 24-hour average would be consistent with other rules and seems reasonable. Therefore, we have made the requested change to today's final rule.

Regarding the third provision, we are not allowing excused excursions (deviations) in today's final rule. Excused excursions were allowed in the HON to give sources time to become familiar with the new monitoring provisions in the HON. The excursions were not meant to be precedent-setting for all future rules. We believe that industry in general has had sufficient time to develop strategies for complying with monitoring requirements, and that excused excursions are no longer necessary. Other recent rules also have been issued without excused excursions.

Regarding the fourth and fifth provisions, there is no problem with including the requested exemption for periods of nonoperation for all or part of a source, and we have made the requested change to today's final rule. However, we are not adding exemptions to today's final rule for startups, shutdowns, and malfunctions. According to 40 CFR 63.6(e)(1)(i) of the NESHAP General Provisions, sources are required to minimize emissions during periods of startup, shutdown, or malfunction. If the daily average parameter value (including data from the startup, shutdown, or malfunction period) does not exceed the specified limit, then there is no deviation to report. However, deviations on days when you have startup, shutdown, or malfunction events would not be violations if you follow the procedures in your SSM plan.

Regarding the sixth provision, we have not included the requested exemption to allow sources only one excursion when two or more parameters go beyond their limits at the same time for the same control device. We do not want to specify in each rule exactly how we are going to assess penalties.

Regarding the eighth provision, we agree with the requests from the three commenters that the data availability requirements be revised. Consistent with the approach taken in 40 CFR part 63, subpart GGG (Pharmaceuticals NESHAP) and subpart MMM (Pesticide Active Ingredients NESHAP), we are requiring that at least 75 percent of the hours during an operating day be valid. We are including a 100 percent data availability requirement for a valid hour of data. A valid hour of data means that sources must have data for all 15-minute periods that were not excluded for no flow. For batch vents, if there is no flow at the time when a monitoring reading is taken, then that reading does not count in the average. In this way, we are able to take into account both batch and continuous vents, with a clear definition of what constitutes an excursion in each case, which was requested in the seventh provision. However, we do not agree with the request by two of the commenters for data to be available in at least 22 out of 30 successive operating days. We believe that such a requirement could create a problem under some situations, such as if a source were to shut down for maintenance for an extended period of time.

D. Notifications and Reports

Comment: One commenter recommended that EPA revise the proposed cellulose rule to require that all NOCS reports be due on the same date following the compliance date, rather than after a certain number of days following the initial performance test or the initial compliance demonstration. According to the commenter, multiple performance tests for a process unit would make the original requirement to submit based on the performance test date very confusing, possibly requiring sources to submit multiple NOCS reports at various times, making it very easy to miscalculate a date and create inadvertent noncompliance. The commenter stated that there should also be no difference in the timeframe to submit the NOCS reports based on whether or not a performance test is required. According to the commenter, it would be more efficient for sources to send, and for EPA to receive, one set of NOCS reports. The commenter recommended that EPA take a standardized approach to NOCS reports by adding text similar to 40 CFR 63.152(b) and deleting references to 40 CFR 63.9(h) and 63.10(d)(2), which address the submittal dates for NOCS reports.

Response: We agree with the commenter that requiring sources to submit NOCS reports at various times could be confusing. To eliminate this source of confusion, we have decided to tie the date to submit all initial NOCS reports to the compliance date rather than the test date. Sources would be required to submit the NOCS reports no later than 240 days after the compliance date. This submittal date is based on the requirements in 40 CFR part 63, subpart A (NESHAP General Provisions), to conduct the initial performance test no later than 180 days after the compliance date and submit the NOCS report no later than 60 days after the performance test (180 days plus 60 days equals 240 days). To accomplish this standardized schedule, we have, as suggested, adapted text from 40 CFR 63.152(b) for today's final rule and excluded the provisions of 40 CFR 63.9(h) and 63.10(d)(2) regarding the submittal date for NOCS reports.

IV. Summary of Impacts

A. Air Quality Impacts

We have determined nationwide baseline HAP emissions from existing sources in the Miscellaneous Viscose Processes source category and Cellulose Ethers Production source category to be approximately 12,800 Mg/yr (14,100 tpy) at the current level of control. We have determined that the promulgated standards will reduce total HAP emissions from these sources by approximately 1,600 Mg/yr (1,700 tpy).

In addition to reducing emissions of HAP, the promulgated standards will also reduce emissions of non-HAP, such as H2S. We have determined that the promulgated standards will reduce H2S emissions from existing sources by approximately 410 Mg/yr (450 tpy) from a baseline level of approximately 2,800 Mg/yr (3,100 tpy).

We have determined that the promulgated standards will increase secondary emissions of criteria pollutants (particulate matter, sulfur dioxide, carbon monoxide, and nitrogen oxides) by approximately 190 Mg/yr (210 tpy). Secondary emissions were assumed to be generated from the utility boilers that produce the electricity and the industrial boilers that produce the steam for the control devices.

B. Cost Impacts

We have determined that the capital costs of the promulgated standards for existing sources will be approximately $30.8 million for emission control and $0.6 million for monitoring, which results in a total capital cost of approximately $31.4 million. The capital costs include the costs to purchase and install the emission control and monitoring equipment.

We have determined that the total annual costs for the rule will be approximately $9.7 million. Specifically, we have determined that the incremental annual costs of the promulgated standards for existing sources will be approximately $9.2 million for emission control and $0.4 million for monitoring. The annual costs include the direct annual costs (comprised of labor, materials, and utilities) plus the indirect annual costs (comprised of overhead, taxes, insurance, administrative charges, and capital recovery).

In addition, we expect that the total annual costs for recordkeeping and reporting required by the promulgated standards for existing sources will average approximately $67,900 over the first 3 years after implementation of the standards. We project no new sources over the first 3 years after implementation of the standards.

C. Economic Impacts

Because of the variability in end products in cellulose products manufacturing, we assessed impacts on five separate market segments. We treated the Cellulose Ethers Production source category as one segment, and divided the Miscellaneous Viscose Processes source category into four segments: cellulose food casing, rayon, cellulosic sponge, and cellophane. The total annualized social cost (in 1998 dollars) of the final rule on the industry is $6.0 million, with costs to the firms affected by the final rule ranging from 0.01 to 1 percent of sales.

For individual facilities, the cost-to-sales ratios ranged from less than 0.01 to 8.2 percent of sales. Since the higher facility cost-to-sales ratios were found among the cellulose food casing, rayon, and cellulosic sponge segments, we performed a market analysis, using 1998 as the baseline. The results indicated less than 1.5 percent change in both the market prices and in the quantity produced for the cellulose food casing and cellulosic sponge segments.

One of the two rayon firms has left the market since the proposal of this rule. For this reason, the remaining firm was modeled assuming full absorption of the control costs. This firm was already operating with a negative profit. It is possible that the closure of the other rayon firm may increase sales and profitability for the remaining firm. However, this is uncertain given the decline in the rayon industry since 1998. Available economic data suggest that an additional facility in this source category has experienced negative profits since 1998, so two facilities could reasonably close if current trends in the industry continue, even if they did not incur compliance costs from the final rule. The impact of the promulgated standards may be that the closures may occur sooner than they would otherwise.

D. Non-Air Environmental Impacts

We have determined that wastewater generation for existing sources will increase by approximately 8.1 million liters per year (L/yr) (2.1 million gallons per year (gal/yr)) relative to a baseline level of approximately 23 billion L/yr (6.2 billion gal/yr), and solid waste generation will increase by approximately 420 Mg/yr (460 tpy). We determined these impacts based on the additional wastewater and solid waste generated by control devices (e.g., Lo-Cat® scrubbers and carbon adsorbers) installed to meet the promulgated standards for existing sources. We do not expect these increased impacts to adversely affect the ability of sources to comply with the promulgated standards.

E. Energy Impacts

We have determined that the overall energy demand (electricity plus steam) for existing sources in the Miscellaneous Viscose Processes source category and Cellulose Ethers Production source category will increase by approximately 300 million megajoules per year (284 billion British thermal units per year) under the promulgated standards. We determined this net increase based on the additional energy demand for control devices (e.g., scrubbers, carbon adsorbers, condensers, and oil absorbers) installed or upgraded to meet the promulgated standards for existing sources. We do not expect this increased energy demand to adversely affect the ability of sources to comply with the promulgated standards.

V. Administrative Requirements

A. Executive Order 12866, Regulatory Planning and Review

Under Executive Order 12866 (58 FR 51735, October 4, 1993), EPA must determine whether the regulatory action is “significant” and, therefore, subject to review by the Office of Management and Budget (OMB) and the requirements of the Executive Order. The Executive Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs, or the rights and obligation of recipients thereof; or

(4) Raise novel legal or policy issues arising out of legal mandates, the President's priorities, or the principles set forth in the Executive Order.

Pursuant to the terms of Executive Order 12866, it has been determined that this rule is not a “significant regulatory action” because none of the listed criteria apply to this action. Consequently, this action was not submitted to OMB for review under Executive Order 12866.

B. Executive Order 13132, Federalism

Executive Order 13132, entitled “Federalism” (64 FR 43255, August 10, 1999), requires EPA to develop an accountable process to ensure “meaningful and timely input by State and local officials in the development of regulatory policies that have federalism implications.” “Policies that have federalism implications” are defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the regulation. The EPA also may not issue a regulation that has federalism implications and that preempts State law unless EPA consults with State and local officials early in the process of developing the regulation.

If EPA complies by consulting, Executive Order 13132 requires EPA to provide to OMB, in a separately identified section of the preamble to the rule, a federalism summary impact statement (FSIS). The FSIS must include a description of the extent of EPA's prior consultation with State and local officials, a summary of the nature of their concerns and EPA's position supporting the need to issue the regulation, and a statement of the extent to which the concerns of State and local officials have been met. Also, when EPA transmits a draft final rule with federalism implications to OMB for review pursuant to Executive Order 12866, it must include a certification from EPA's Federalism Official stating that EPA has met the requirements of Executive Order 13132 in a meaningful and timely manner.

The final rule does not have federalism implications. It will not have substantial direct effects on the States, on the relationship between the national government and the States, or on the distribution of power and responsibilities among the various levels of government, as specified in Executive Order 13132. Thus, the requirements of section 6 of the Executive Order do not apply to the rule.

C. Executive Order 13175, Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.”

The final rule does not have tribal implications, as specified in Executive Order 13175. Thus, Executive Order 13175 does not apply to the rule.

D. Executive Order 13045, Protection of Children From Environmental Health Risks and Safety Risks

Executive Order 13045 (62 FR 19885, April 23, 1997) applies to any rule that: (1) Is determined to be “economically significant” as defined under Executive Order 12866, and (2) concerns an environmental health or safety risk that EPA has reason to believe may have a disproportionate effect on children. If the regulatory action meets both criteria, EPA must evaluate the environmental health or safety effects of the planned rule on children, and explain why the planned rule is preferable to other potentially effective and reasonably feasible alternatives that EPA considered.

The EPA interprets Executive Order 13045 as applying only to those regulatory actions that are based on health or safety risks, such that the analysis required under section 5-501 of the Executive Order has the potential to influence the rule. Today's rule is not subject to Executive Order 13045 because it is based solely on technology performance. No children's risk analysis was performed because no alternative technologies exist that would provide greater stringency at a reasonable cost. Furthermore, the rule has been determined not to be “economically significant” as defined under Executive Order 12866.

E. Executive Order 13211, Actions Concerning Regulations That Significantly Affect Energy Supply, Distribution, or Use

Today's final rule is not subject to Executive Order 13211 (66 FR 28355, May 22, 2001) because it is not a significant regulatory action under Executive Order 12866.

F. Unfunded Mandates Reform Act of 1995

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in aggregate, or by the private sector, of $100 million or more in any 1 year. Before promulgating an EPA rule for which a written statement is needed, section 205 of the UMRA generally requires EPA to identify and consider a reasonable number of regulatory alternatives and adopt the least costly, most cost-effective, or least burdensome alternative that achieves the objectives of the rule. The provisions of section 205 do not apply when they are inconsistent with applicable law. Moreover, section 205 allows EPA to adopt an alternative other than the least costly, most cost-effective, or least burdensome alternative if the Administrator publishes with this final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA's regulatory proposals with significant Federal intergovernmental mandates, and informing, educating, and advising small governments on compliance with the regulatory requirements.

The EPA has determined that today's final rule does not contain a Federal mandate that may result in expenditures of $100 million or more for State, local, and tribal governments, in the aggregate, or the private sector in any 1 year. The capital cost of the rule has been determined to be approximately 31.4 million. The maximum total annual cost of the final rule for any year has been determined to be approximately $9.7 million. Thus, today's final rule is not subject to the requirements of sections 202 and 205 of the UMRA. In addition, EPA has determined that the final rule contains no regulatory requirements that might significantly or uniquely affect small governments because it contains no requirements that apply to such governments or impose obligations upon them. Therefore, today's final rule is not subject to the requirements of section 203 of the UMRA.

G. Regulatory Flexibility Act (RFA), as Amended by the Small Business Regulatory Enforcement Fairness Act of 1996 (SBREFA), 5 U.S.C. 601 et seq.

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's final rule on small entities, a small entity is defined as: (1) A small business that has fewer than 1,000 employees for NAICS codes 325221, 325188, and 325199; fewer than 750 employees for NAICS code 325211; or fewer than 500 employees for NAICS codes 326121 and 326199; (2) a small governmental jurisdiction that is a government of a city, county, town, school district or special district with a population of less than 50,000; and (3) a small organization that is any not-for-profit enterprise which is independently owned and operated and is not dominant in its field.

After considering the economic impacts of today's final rule on small entities, it has been determined that this action will not have a significant economic impact on a substantial number of small entities. We have determined that only one firm meets one of the definitions of small entity—a small business that has fewer than 500 employees for NAICS code 326199. This firm owns only 1 of the 13 operations subject to today's final rule. There are several firms subject to today's final rule whose costs will be a greater percentage of sales than this small business. Furthermore, the market impacts on this firm are minimal and are in line with impacts experienced by other firms subject to today's final rule.

H. Paperwork Reduction Act

The information collection requirements in the final rule will be submitted for approval to OMB under the Paperwork Reduction Act, 44 U.S.C. 3501 et seq. The EPA has prepared an Information Collection Request (ICR) document (ICR No. 1974.02), and you may obtain a copy from Sandy Farmer by mail at the Office of Environmental Information, Collection Strategies Division (2822), U.S. EPA, 1200 Pennsylvania Avenue, NW., Washington, DC 20460; by electronic mail at farmer.sandy@epa.gov; or by calling (202) 260-2740. You may also download a copy off the Internet at http://www.epa.gov/icr. The information requirements are not effective until OMB approves them.

The information requirements are based on notification, recordkeeping, and reporting requirements in 40 CFR part 63, subpart A (NESHAP General Provisions), which are mandatory for all operators subject to national emission standards. These recordkeeping and reporting requirements are specifically authorized by section 114 of the CAA (42 U.S.C. 7414). All information submitted to EPA pursuant to the recordkeeping and reporting requirements for which a claim of confidentiality is made is safeguarded according to EPA's policies set forth in 40 CFR part 2, subpart B.

Today's final rule would require maintenance inspections of the control devices but would not require any notifications or reports beyond those required by 40 CFR part 63, subpart A (NESHAP General Provisions). The recordkeeping requirements require only the specific information needed to determine compliance.

The annual recordkeeping and reporting burden for this collection (averaged over the first 3 years after the effective date of the rule) has been determined to be approximately 1,400 labor hours per year, at a total annual cost of approximately $67,900. This burden estimate includes one-time notifications of applicability and performance test, reading instructions, training personnel, and developing a record system, SSM plan, and site-specific monitoring plan. The total annualized capital cost for monitoring equipment and for file cabinets used for storing collected data and reports averages approximately $56,600 over the 3-year period of the ICR. The total annual O&M cost for file storage, photocopying, and postage for notifications and reports averages approximately $200 over the 3-year period of the ICR.

Burden means the total time, effort, or financial resources expended by persons to generate, maintain, retain, or disclose or provide information to or for a Federal agency. This includes the time needed to: (1) Review instructions; (2) develop, acquire, install, and utilize technology and systems for the purposes of collecting, validating, and verifying information, processing and maintaining information, and disclosing and providing information; (3) adjust the existing ways to comply with any previously applicable instructions and requirements; (4) train personnel to be able to respond to a collection of information; (5) search data sources; (6) complete and review the collection of information; and (7) transmit or otherwise disclose the information.

An agency may not conduct or sponsor, and a person is not required to respond to, a collection of information unless it displays a currently valid OMB control number. The OMB control numbers for EPA's regulations are listed in 40 CFR part 9 and 48 CFR chapter 15.

I. National Technology Transfer and Advancement Act of 1995

As noted in the proposed rule, section 12(d) of the National Technology Transfer and Advancement Act of 1995 (NTTAA), Public Law 104-113, section 12(d) (15 U.S.C. 272 note), directs EPA to use voluntary consensus standards in its regulatory activities, unless to do so would be inconsistent with applicable law or otherwise impractical. Voluntary consensus standards are technical standards (e.g., materials specifications, test methods, sampling procedures, and business practices) developed or adopted by voluntary consensus standards bodies. The NTTAA directs EPA to provide Congress, through OMB, explanations when the Agency decides not to use available and applicable voluntary consensus standards.

Today's final rule involves the following technical standards: EPA Methods 1, 1A, 2, 2A, 2C, 2D, 2F, 2G, 3, 3A, 3B, 4, 15, 18, 21, 22, 25, and 25A (40 CFR part 60, appendix A); Performance Specification 7 (PS-7), PS-8, PS-9, and PS-15 (40 CFR part 60, appendix B); and the applicable wastewater test methods and procedures in 40 CFR 63.144 and 63.145. Consistent with the NTTAA, EPA conducted searches to identify voluntary consensus standards in addition to these EPA methods and performance specifications. The search and review results were documented and placed in the docket for today's final rule (Docket No. A-99-39).

No applicable voluntary consensus standards were identified as alternatives to EPA Methods 1A, 2A, 2D, 2F, 2G, 22, PS-7, PS-8, PS-9, and PS-15 for the purposes of the rule. However, three voluntary consensus standards were identified as acceptable alternatives to EPA Methods 3B, 18, and 624 for the purposes of the rule. The three standards are ASME Performance Test Code (PTC) 19.10-1981—Part 10 (Flue and Exhaust Gas Analysis), ASTM D6420-99 (Standard Test Method for Determination of Gaseous Organic Compounds by Direct Interface Gas Chromatography-Mass Spectrometry (GC/MS)), and ASTM D5790-95 (Standard Test Method for Measurement of Purgeable Organic Compounds in Water by Capillary Column Gas Chromatography-Mass Spectrometry).

The voluntary consensus standard ASME PTC 19.10-1981—Part 10 is cited in today's final rule for its manual method for measuring the oxygen, carbon dioxide, and carbon monoxide content of exhaust gas. This part of ASME PTC 19.10-1981—Part 10 is an acceptable alternative to EPA Method 3B.

The voluntary consensus standard ASTM D6420-99 is appropriate in certain cases as an alternative to EPA Method 18 for the measurement of toluene and total organic HAP. Similar to EPA Method 18, ASTM D6420-99 is also a performance-based method for measuring gaseous organic compounds. However, ASTM D6420-99 was written to support the specific use of highly portable and automated GC/MS. While offering advantages over the traditional EPA Method 18, the ASTM method does allow some less stringent criteria for accepting GC/MS results than required by EPA Method 18. Therefore, ASTM D6420-99 is a suitable alternative to EPA Method 18 only where: (1) The target compound(s) are those listed in Section 1.1 of ASTM D6420-99, and (2) the target concentration is between 150 parts per billion by volume and 100 parts per million by volume. For target compound(s) not listed in Section 1.1 of ASTM D6420-99, but potentially detected by mass spectrometry, today's final rule specifies that the additional system continuing calibration check after each run, as detailed in Section 10.5.3 of the ASTM method, must be followed, met, documented, and submitted with the data report even if there is no moisture condenser used or the compound is not considered water soluble. For target compound(s) not listed in Section 1.1 of ASTM D6420-99 and not amenable to detection by mass spectrometry, ASTM D6420-99 does not apply. As a result, EPA will cite ASTM D6420-99 in today's final rule. The EPA will also cite EPA Method 18 as a gas chromatography (GC) option in addition to ASTM D6420-99, which will allow the continued use of GC configurations other than GC/MS.

The voluntary consensus standard ASTM D5790-95 is a “purge and trap” method that is acceptable as an alternative analytical procedure for the wastewater test methods and procedures in 40 CFR 63.144 and 63.145 for the analysis of total organic HAP in wastewater samples. As a result, EPA will cite ASTM D5790-95 in today's final rule. However, this ASTM method should be used with the sampling procedures of EPA Method 25D or an equivalent method in order to be a complete alternative for the purposes of this rule, as per 40 CFR 63.144. The standard ASTM D5790-95 is similar to EPA Method 624, which is also a “purge and trap” procedure. The standard ASTM D5790-95 is validated for all of the 21 volatile organic HAP targeted by EPA Method 624, but it is also validated for an additional 14 HAP not targeted by the EPA method.

In addition to the three voluntary consensus standards EPA uses in the rule, the search for emissions measurement procedures identified 14 other voluntary consensus standards as potential alternatives to EPA Methods 1, 2, 2C, 3, 3A, 3B, 4, 15, 18, 21, 25, and 25A. The EPA determined that 12 of the 14 standards identified for measuring emissions of the HAP or surrogates subject to emission limits in today's final rule were impractical alternatives to EPA test methods for the purposes of the rule. Two of the 14 standards identified in the search were not available at the time the review was conducted because they are under development by a voluntary consensus body. For these reasons, EPA does not intend to adopt these 14 standards for today's final rule.

Sections 63.5535 and 63.5545 and Table 4 to Subpart UUUU of 40 CFR part 63 list the EPA test methods and performance specifications included in today's final rule. Under 40 CFR 63.7(f) and 63.8(f) of the NESHAP General Provisions, an affected source may apply to EPA for permission to use alternative test methods or alternative monitoring requirements in place of any of the EPA test methods, performance specifications, or procedures.

NESHAP for Cellulose Products Manufacturing—Final Rule—Page 61 of 193

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule is effective June 11, 2002.

List of Subjects in 40 CFR Part 63

Environmental protection, Administrative practice and procedure, Air pollution control, Hazardous substances, Intergovernmental relations, Reporting and recordkeeping requirements.

Dated: May 15, 2002.
Christine Todd Whitman,
Administrator.

For the reasons stated in the preamble, title 40, chapter I, part 63 of the Code of the Federal Regulations is amended as follows:

PART 63—[AMENDED]

1. The authority citation for part 63 continues to read as follows:

Authority: 42 U.S.C. 7401 et seq.

2. Part 63 is amended by adding subpart UUUU to read as follows:

Subpart UUUU—National Emission Standards for Hazardous Air Pollutants for Cellulose Products Manufacturing

Sec.
What This Subpart Covers
63.5480 What is the purpose of this subpart?
63.5485 Am I subject to this subpart?
63.5490 What parts of my plant does this subpart cover?
63.5495 When do I have to comply with this subpart?
Emission Limits, Operating Limits, and Work Practice Standards
63.5505 What emission limits, operating limits, and work practice standards must I meet?
General Compliance Requirements
63.5515 What are my general requirements for complying with this subpart?
Testing and Initial Compliance Requirements
63.5530 How do I demonstrate initial compliance with the emission limits and work practice standards?
63.5535 What performance tests and other procedures must I use?
63.5540 By what date must I conduct a performance test or other initial compliance demonstration?
63.5545 What are my monitoring installation, operation, and maintenance requirements?
Continuous Compliance Requirements
63.5555 How do I demonstrate continuous compliance with the emission limits, operating limits, and work practice standards?
63.5560 How do I monitor and collect data to demonstrate continuous compliance?
Notifications, Reports, and Records
63.5575 What notifications must I submit and when?
63.5580 What reports must I submit and when?
63.5585 What records must I keep?
63.5590 In what form and how long must I keep my records?
Other Requirements and Information
63.5595 What compliance options do I have if part of my affected source is subject to both this subpart and another subpart?
63.5600 What other requirements apply to me?
63.5605 Who implements and enforces this subpart?
63.5610 What definitions apply to this subpart?
Tables to Subpart UUUU OF Part 63
Table 1 to Subpart UUUU of Part 63—Emission Limits and Work Practice Standards
Table 2 to Subpart UUUU of Part 63—Operating Limits
Table 3 to Subpart UUUU of Part 63—Initial Compliance With Emission Limits and Work Practice Standards
Table 4 to Subpart UUUU of Part 63—Requirements for Performance Tests
Table 5 to Subpart UUUU of Part 63—Continuous Compliance with Emission Limits and Work Practice Standards
Table 6 to Subpart UUUU of Part 63—Continuous Compliance with Operating Limits
Table 7 to Subpart UUUU of Part 63—Requirements for Notifications
Table 8 to Subpart UUUU of Part 63—Requirements for Reports
Table 9 to Subpart UUUU of Part 63—Requirements for Recordkeeping
Table 10 to Subpart UUUU of Part 63—Applicability of General Provisions to Subpart UUUU

What This Subpart Covers

§ 63.5480 What is the purpose of this subpart?

This subpart establishes emission limits, operating limits, and work practice standards for hazardous air pollutants (HAP) emitted from cellulose products manufacturing operations. Carbon disulfide, carbonyl sulfide, ethylene oxide, methanol, methyl chloride, propylene oxide, and toluene are the HAP emitted in the greatest quantities from cellulose products manufacturing operations. This subpart also establishes requirements to demonstrate initial and continuous compliance with the emission limits, operating limits, and work practice standards.

§ 63.5485 Am I subject to this subpart?

You are subject to this subpart if you own or operate a cellulose products manufacturing operation that is located at a major source of HAP emissions.

(a) Cellulose products manufacturing includes both the Miscellaneous Viscose Processes source category and the Cellulose Ethers Production source category. The Miscellaneous Viscose Processes source category includes all of the operations that use the viscose process. These operations include the cellulose food casing, rayon, cellulosic sponge, and cellophane operations, as defined in § 63.5610. The Cellulose Ethers Production source category includes all of the cellulose ether operations, as defined in § 63.5610, that use the cellulose ether process.

(b) A major source of HAP is any stationary source or group of stationary sources located within a contiguous area and under common control that emits or has the potential to emit any single HAP at a rate of 9.1 megagrams per year (Mg/yr) (10 tons per year (tpy)) or more or any combination of HAP at a rate of 23 Mg/yr (25 tpy) or more.

(c) The provisions of this subpart do not apply to research and development facilities, as defined in section 112(b)(7) of the Clean Air Act (CAA), regardless of whether the facilities are located at the same plant site as an operation subject to the provisions of this subpart.

(d) For cellulose ether operations, the applicability provisions in paragraph (d)(1) or (2) of this section apply.

(1) The applicability provisions in §§ 63.100(a) through (f) and 63.160 apply if you are complying with the equipment leak provisions of subpart H of this part.

(2) The applicability provisions in § 63.1019 apply if you are complying with the equipment leak provisions in subpart UU of this part.

(e) For cellulose ether operations, the applicability provisions in §§ 63.100(a) through (f) and 63.110(a), (e) and (h) apply if you are complying with the wastewater provisions in subparts F and G of this part.

§ 63.5490 What parts of my plant does this subpart cover?

(a) This subpart applies to each new, reconstructed, or existing affected source for the Miscellaneous Viscose Processes and Cellulose Ethers Production source categories.

(b) The affected source for the Miscellaneous Viscose Processes source category is each cellulose food casing, rayon, cellulosic sponge, or cellophane operation, as defined in § 63.5610. The affected source for the Cellulose Ethers Production source category is each cellulose ether operation, as defined in § 63.5610.

(c) You must consider storage vessels to be part of your process unit, as defined in § 63.5610, under either of the conditions described in paragraphs (c)(1) and (2) of this section. Otherwise, you may assign your storage vessels according to paragraph (c)(3) or (4) of this section.

(1) The input to the storage vessel from your viscose process or cellulose ether process (either directly or through other storage vessels assigned to your process unit) is greater than or equal to the input from any other process.

(2) The output from the storage vessel to your viscose process or cellulose ether process (either directly or through other storage vessels assigned to your process unit) is greater than or equal to the output to any other process.

(3) If the greatest input to and/or output from a shared storage vessel is the same for two or more processes, including at least one viscose process or cellulose ether process, you may assign the storage vessel to any process unit that has the greatest input or output.

(4) If the use varies from year to year, then you must base the determination on the utilization that occurred during the year preceding June 11, 2002 or, if the storage vessel was not operating during that year, you must base the use on the expected use for the first 5-year period after startup. You must include this determination in the Notification of Compliance Status Report specified in Table 7 to this subpart.

(d) An affected source is a new affected source if you began construction of the affected source after August 28, 2000 and you meet the applicability criteria in § 63.5485 at the time you began construction.

(e) An affected source is reconstructed if you meet the criteria as defined in § 63.2.

(f) An affected source is existing if it is not new or reconstructed.

(g) For the purposes of this subpart, the definitions of new and existing affected source in paragraphs (d) through (f) of this section supersede the definitions of new and existing affected source in subparts F, G, H, U and UU of this part.

§ 63.5495 When do I have to comply with this subpart?

(a) If you have a new or reconstructed affected source, then you must comply with this subpart according to the requirements in paragraphs (a)(1) and (2) of this section.

(1) If you start up your affected source before June 11, 2002, then you must comply with the emission limits, operating limits, and work practice standards for new and reconstructed sources in this subpart no later than June 11, 2002.

(2) If you start up your affected source after June 11, 2002, then you must comply with the emission limits, operating limits, and work practice standards for new and reconstructed sources in this subpart upon startup of your affected source.

(b) If you have an existing affected source, then you must comply with this subpart according to the requirements in paragraphs (b)(1) and (2) of this section.

(1) Cellulose food casing, cellulosic sponge, cellophane, and cellulose ether operations must comply with the emission limits, operating limits, and work practice standards for existing sources in this subpart no later than June 13, 2005.

(2) Rayon operations must comply with this subpart according to the requirements in paragraphs (b)(2)(i) through (iii) of this section.

(i) Rayon operations must comply with the 35 percent reduction emission limit and associated operating limits and work practice standards for existing sources in this subpart no later than June 13, 2005.

(ii) Rayon operations must comply with the work practice standard for carbon disulfide unloading and storage operations for existing sources in this subpart no later than June 13, 2005.

(iii) Rayon operations must comply with the 40 percent reduction emission limit and associated operating limits and work practice standards for existing sources in this subpart no later than June 11, 2010.

(c) If you have an area source that increases its emissions or its potential to emit so that it becomes a major source of HAP and an affected source subject to this subpart, then the requirements in paragraphs (c)(1) and (2) of this section apply.

(1) An area source that meets the criteria of a new affected source, as specified in § 63.5490(d), or a reconstructed affected source, as specified in § 63.5490(e), must be in compliance with this subpart upon becoming a major source.

(2) An area source that meets the criteria of an existing affected source, as specified in § 63.5490(f), must be in compliance with this subpart no later than 3 years after it becomes a major source.

(d) You must meet the notification requirements in § 63.5575 and in subpart A of this part. Some of the notifications must be submitted before you are required to comply with the emission limits, operating limits, and work practice standards in this subpart.

(e) For the purposes of this subpart, the compliance dates in this section supersede the compliance dates in subparts F, G, H, U and UU of this part.

Emission Limits, Operating Limits, and Work Practice Standards

§ 63.5505 What emission limits, operating limits, and work practice standards must I meet?

(a) You must meet each emission limit and work practice standard in Table 1 to this subpart that applies to you.

(b) You must meet each operating limit in Table 2 to this subpart that applies to you.

(c) As provided in § 63.6(g), you may apply to EPA for permission to use an alternative to the work practice standards in this section.

(d) Opening of a safety device, as defined in § 63.5610, is allowed at any time that conditions require venting to avoid unsafe conditions.

(e) The emission limits in Table 1 to this subpart used to control emissions from storage vessels do not apply during periods of planned routine maintenance. Periods of planned routine maintenance of each control device, during which the control device does not meet the emission limit specified in Table 1 to this subpart, must not exceed 240 hours per year.

General Compliance Requirements

§ 63.5515 What are my general requirements for complying with this subpart?

(a) You must be in compliance with the emission limits, operating limits, and work practice standards in this subpart at all times, except during periods of startup, shutdown, and malfunction.

(b) You must always operate and maintain your affected source, including air pollution control and monitoring equipment, according to the provisions in § 63.6(e)(1)(i).

(1) During the period between the compliance date specified for your affected source in § 63.5495 and the date upon which continuous monitoring systems (CMS) have been installed and validated and any applicable operating limits have been set, you must maintain a log detailing the operation and maintenance of the process and emissions control equipment.

(c) You must develop and implement a written startup, shutdown, and malfunction (SSM) plan according to the provisions in § 63.6(e)(3).

(d) After you treat a wastewater stream according to the provisions of subparts F and G of this part, it is no longer subject to this subpart.

(e) If you use a boiler or process heater to comply with an emission limit or work practice standard in Table 1 to this subpart, then the vent stream must be introduced into the flame zone of the boiler or process heater.

(f) You are not required to conduct a performance test when you use any of the units specified in paragraphs (f)(1) through (5) of this section to comply with the applicable emission limit or work practice standard in Table 1 to this subpart. You are also exempt from the continuous compliance, reporting, and recordkeeping requirements specified in Tables 5 through 9 to of this subpart for any of these units. This exemption applies to units used as control devices or wastewater treatment units.

(1) A boiler or process heater with a design heat input capacity of 44 megawatts or greater;

(2) A boiler or process heater into which the vent stream is introduced with the primary fuel or is used as the primary fuel;

(3) A boiler or process heater burning hazardous waste that meets the requirements in paragraph (f)(3)(i) or (ii) of this section.

(i) The boiler or process heater has been issued a final permit under 40 CFR part 270 and complies with the requirements of 40 CFR part 266, subpart H; or

(ii) The boiler or process heater has certified compliance with the interim status requirements of 40 CFR part 266, subpart H.

(4) A hazardous waste incinerator that has been issued a final permit under 40 CFR part 270 and that complies with the requirements of 40 CFR part 264, subpart O, or that has certified compliance with the interim status requirements of 40 CFR part 265, subpart O.

(5) A control device for which a performance test was conducted for determining compliance with a rule promulgated by EPA and the test was conducted using the same test methods specified in Table 4 to this subpart and either you have made no deliberate process changes since the test, or you can demonstrate that the results of the performance test with or without adjustments, reliably demonstrate compliance despite process changes.

(g) For purposes of meeting any of the emission limits in Table 1 to this subpart, you may use either a single control technique or any combination of control techniques, as defined in § 63.5610.

(h) You must be in compliance with the provisions of subpart A of this part, except as noted in Table 10 to this subpart.

Testing and Initial Compliance Requirements

§ 63.5530 How do I demonstrate initial compliance with the emission limits and work practice standards?

(a) You must demonstrate initial compliance with each emission limit and work practice standard that applies to you according to Table 3 to this subpart. You must also install and operate the monitoring equipment according to the requirements in § 63.5545 that apply to you.

(b) You must establish each site-specific operating limit in Table 2 to this subpart that applies to you according to the requirements in § 63.5535 and Table 4 to this Subpart UUUU.

(c) You must submit the Notification of Compliance Status Report containing the results of the initial compliance demonstration according to the requirements in § 63.5575 and Table 7 to this Subpart UUUU.

§ 63.5535 What performance tests and other procedures must I use?

(a) You must conduct each performance test in Table 4 to this Subpart UUUU that applies to you.

(b) You must conduct each performance test for continuous process vents and combinations of batch and continuous process vents according to the requirements in § 63.7(e)(1) and under the specific conditions in Table 4 to this Subpart UUUU. Normal operating conditions will be defined by the affected source. You must conduct each performance test for batch process vents under the specific conditions in Table 4 to this subpart and not under normal operating conditions as specified in § 63.7(e)(1).

(c) You may not conduct performance tests during periods of startup, shutdown, or malfunction, as specified in § 63.7(e)(1).

(d) You must conduct three separate test runs for each performance test required in this section, as specified in § 63.7(e)(3). Each test run must last at least 1 hour.

(e) You must use the equations in paragraphs (e)(1) through (3) of this section to determine the control efficiency for each performance test.

(1) The total organic HAP emission rate is the sum of the emission rates of the individual HAP components. You must calculate the total organic HAP emission rate at the inlet and outlet of each control device for each test run using Equation 1 of this section:

Where:

ERHAPt = total emission rate of organic HAP in vent stream, kilograms per hour (kg/hr) (pounds per hour (lb/hr)).

ERHAPj = emission rate of individual organic HAP in vent stream, kg/hr (lb/hr).

j = individual HAP.

m = number of individual HAP sampled in each test run.

(2) The total sulfide emission rate is the sum of the emission rates of the individual sulfide components, expressed as carbon disulfide. You must calculate the total sulfide emission rate at the inlet and outlet of each control device for each test run using Equation 2 of this section:

Where:

ERsulft = total emission rate of sulfide in vent stream, kg/hr (lb/hr), as carbon disulfide.

ERCS2 = emission rate of carbon disulfide in vent stream, kg/hr (lb/hr).

ERH2S = emission rate of hydrogen sulfide in vent stream, kg/hr (lb/hr).

MCS2 = mass of carbon disulfide per mole of carbon disulfide, 76 kilograms per kilogram-mole (kg/kg-mol) (76 pounds per pound-mole (lb/lb-mol)).

MH2S = mass of hydrogen sulfide per mole of carbon disulfide, 68 kg/kg-mol (68 lb/lb-mol).

ERCOS = emission rate of carbonyl sulfide in vent stream, kg/hr (lb/hr).

MCOS = mass of carbonyl sulfide per mole of carbon disulfide, 120 kg/kg-mol (120 lb/lb-mol).

(3) You must calculate the control efficiency for each control device for each test run using Equation 3 of this section:

Where:

CE = control efficiency, percent.

ERi = total emission rate of organic HAP (ERHAPt) or sulfide (ERsulft) in the inlet vent stream of the control device, kg/hr (lb/hr).

ERo = total emission rate of organic HAP (ERHAPt) or sulfide (ERsulft) in the outlet vent stream of the control device, kg/hr (lb/hr).

(f) When a flare is used to comply with the applicable emission limit or work practice standard in Table 1 to this subpart, you must comply with the requirements in paragraphs (f)(1) through (3) of this section. You are not required to conduct a performance test to determine the control efficiency of the flare or the outlet organic HAP concentration. If you have previously conducted a compliance demonstration for a flare using the techniques specified in paragraphs (f)(1) through (3) of this section, you may use that compliance demonstration to satisfy the requirements of this paragraph if either no deliberate process changes have been made since the compliance demonstration, or the results of the compliance demonstration reliably demonstrate compliance despite process changes.

(1) Conduct a visible emission test using the techniques specified in § 63.11(b)(4);

(2) Determine the net heating value of the gas being combusted using the techniques specified in § 63.11(b)(6); and

(3) Determine the exit velocity using the techniques specified in either § 63.11(b)(7) or (b)(8), as appropriate.

(g) Viscose process affected sources must conduct a month-long initial compliance demonstration according to the requirements in paragraphs (g)(1) through (5) of this section and Table 3 to this subpart.

(1) Viscose process affected sources that must use non-recovery control devices to meet the applicable emission limit in Table 1 to this subpart must conduct an initial performance test of their non-recovery control devices according to the requirements in Table 4 to this subpart to determine the control efficiency of their non-recovery control devices and incorporate this information in their material balance.

(2) Viscose process affected sources that use recovery devices to meet the applicable emission limit in Table 1 to this subpart must determine the quantity of carbon disulfide fed to the process and the quantity of carbon disulfide recovered using the recovery device and incorporate this information in their material balance.

(3) Viscose process affected sources that use viscose process changes to meet the applicable emission limit in Table 1 to this subpart must determine the quantity of carbon disulfide used before and after the process change and incorporate this information in their material balance.

(4) Cellophane operations that use recovery devices to meet the 95 percent toluene emission limit in Table 1 to this subpart must determine the quantity of toluene fed to the process and the toluene recovered using the solvent recovery device and incorporate this information in their material balance.

(5) Using the pertinent material balance information obtained according to paragraphs (g)(1) through (4) of this section, viscose process affected sources must calculate the monthly average percent reduction for their affected source over the month-long period of the compliance demonstration.

(h) During the period of each compliance demonstration, you must establish each site-specific operating limit in Table 2 to this subpart that applies to you according to the requirements in paragraphs (h)(1) through (10) of this section.

(1) For continuous process vents and combinations of batch and continuous process vents, establish your site-specific operating limit using the procedures in § 63.505(b)(2), except that, if you demonstrate initial compliance using a month-long compliance demonstration, references to “compliance testing” and “1-hour runs” mean “compliance demonstration” and references to “three test runs” mean “daily averages during the compliance demonstration” for purposes of this subpart.

(2) For batch process vents, establish your site-specific operating limit using the procedures in § 63.505(b)(3), except that, if you demonstrate initial compliance using a month-long compliance demonstration, references to “compliance testing” and “performance test” mean “compliance demonstration” for purposes of this subpart.

(3) For condensers, record the outlet (product side) gas or condensed liquid temperature averaged over the same period as the compliance demonstration while the vent stream is routed and constituted normally. Locate the temperature sensor in a position that provides a representative temperature.

(4) For thermal oxidizers, record the firebox temperature averaged over the same period as the compliance demonstration. Locate the temperature sensor in a position that provides a representative temperature.

(5) For water scrubbers, record the pressure drop and flow rate of the scrubber liquid averaged over the same time period as the compliance demonstration while the vent stream is routed and constituted normally. Locate the pressure and flow sensors in positions that provide representative measurements of these parameters.

(6) For caustic scrubbers, record the pressure drop, flow rate of the scrubber liquid, and either the pH, conductivity, or alkalinity of the scrubber liquid averaged over the same time period as the compliance demonstration while the vent stream is routed and constituted normally. Locate the pressure sensors, flow sensors, and pH, conductivity, or alkalinity sensors in positions that provide representative measurements of these parameters. Ensure the sample is properly mixed and representative of the fluid to be measured.

(7) For flares, record the presence of a pilot flame. Locate the pilot flame sensor in a position that provides an accurate and continuous determination of the presence of the pilot flame.

(8) For biofilters, record the pressure drop across the biofilter beds, inlet gas temperature, and effluent pH, averaged over the same time period as the compliance demonstration while the vent stream is routed and constituted normally. Locate the pressure, temperature, and pH sensors in positions that provide representative measurement of these parameters. Ensure the sample is properly mixed and representative of the fluid to be measured.

(9) For carbon adsorbers, record the total regeneration stream mass or volumetric flow during each carbon bed regeneration cycle during the period of the compliance demonstration. Record the temperature of the carbon bed after each carbon bed regeneration cycle during the period of the compliance demonstration (and within 15 minutes of completion of any cooling cycle(s)). Record the operating time since the end of the last carbon bed regeneration cycle and the beginning of the next carbon bed regeneration cycle during the period of the compliance demonstration. Locate the temperature and flow sensors in positions that provide representative measurement of these parameters.

(10) For oil absorbers, record the flow of absorption liquid through the absorber, the temperatures of the absorption liquid before and after the steam stripper, and the steam flow through the steam stripper averaged during the same period of the compliance demonstration. Locate the temperature and flow sensors in positions that provide representative measurement of these parameters.

§ 63.5540 By what date must I conduct a performance test or other initial compliance demonstration?

(a) You must conduct performance tests or other initial compliance demonstrations no later than 180 calendar days after the compliance date that is specified for your source in § 63.5495 and according to the provisions in § 63.7(a)(2).

§ 63.5545 What are my monitoring installation, operation, and maintenance requirements?

(a) For each CMS required in this section, you must develop and make available for inspection by the permitting authority, upon request, a site-specific monitoring plan that addresses the provisions in paragraphs (a)(1) through (3) of this section.

(1) Installation of the CMS sampling probe or other interface at a measurement location relative to each affected process unit such that the measurement is representative of control of the exhaust emissions (e.g., on or downstream of the last control device);

(2) Performance and equipment specifications for the sample interface, the pollutant concentration or parametric signal analyzer, and the data collection and reduction system; and

(3) Performance evaluation procedures and acceptance criteria (e.g., calibrations).

(b) In your site-specific monitoring plan, you must also address the provisions in paragraphs (b)(1) through (3) of this section.

(1) Ongoing operation and maintenance procedures in accordance with the general requirements of §§ 63.8(c)(1), (3), (4)(ii) and 63.5580(c)(6);

(2) Ongoing data quality assurance procedures in accordance with the general requirements of § 63.8(d)(2); and

(3) Ongoing recordkeeping and reporting procedures in accordance with the general requirements of §§ 63.10(c), (e)(1), (e)(2)(i) and 63.5585.

(c) You must conduct a performance evaluation of each CMS in accordance with your site-specific monitoring plan.

(d) You must operate and maintain the CMS in continuous operation according to the site-specific monitoring plan.

(e) For each continuous emissions monitoring system (CEMS), you must meet the requirements in paragraphs (e)(1) through (6) of this section.

(1) Each CEMS must be installed, operated, and maintained according to the applicable performance specification (PS) listed in paragraphs (e)(1)(i) through (iv) of this section:

(i) PS-7 of 40 CFR part 60, appendix B, for CEMS used to measure hydrogen sulfide emissions;

(ii) PS-8 of 40 CFR part 60, appendix B, for CEMS used to measure volatile organic compound emissions;

(iii) PS-9 of 40 CFR part 60, appendix B, for CEMS that use gas chromatography to measure organic HAP emissions; and

(iv) PS-15 of 40 CFR part 60, appendix B, for CEMS that use Fourier transform infrared spectroscopy to measure organic HAP emissions.

(2) You must conduct a performance evaluation of each CEMS according to the requirements in § 63.8 and according to the applicable performance specification listed in paragraphs (e)(1)(i) through (iv) of this section.

(3) As specified in § 63.8(c)(4)(ii), each CEMS must complete a minimum of one cycle of operation (sampling, analyzing, and data recording) for each successive 15-minute period.

(4) The CEMS data must be reduced to operating data averages computed using valid data from at least 75 percent of the hours during the averaging period. To have a valid hour of data, you must have four or more data points equally spaced over the 1-hour period (or at least two data points during an hour when calibration, quality assurance, or maintenance activities are being performed), except as specified in paragraph (a)(5) of this section.

(5) The CEMS data taken during periods in which the control devices are not functioning in controlling emissions, as indicated by periods of no flow for all or a portion of an affected source, must not be considered in the averages.

(6) Determine the daily average of all recorded readings for each operating day during the semiannual reporting period described in Table 8 to this subpart.

(f) For each continuous parameter monitoring system (CPMS), you must meet the requirements in paragraphs (f)(1) through (9) of this section.

(1) Satisfy all requirements of performance specifications for CPMS upon promulgation of such performance specifications.

(2) Satisfy all requirements of quality assurance (QA) procedures for CPMS upon promulgation of such QA procedures.

(3) The CPMS must complete a minimum of one cycle of operation for each successive 15-minute period.

(4) To calculate a valid hourly average, there must be at least four equally spaced values for that hour, excluding data collected during the periods described in paragraph (f)(6) of this section.

(5) Have valid hourly data for at least 75 percent of the hours during the averaging period.

(6) The CPMS data taken during periods in which the control devices are not functioning in controlling emissions, as indicated by periods of no flow for all or a portion of an affected source, must not be considered in the averages.

(7) Calculate a daily average using all of the valid hourly averages for each operating day during the semiannual reporting period.

(8) Record the results of each inspection, calibration, and validation check.

(9) Except for redundant sensors, any device that is used to conduct an initial validation or accuracy audit of a CPMS must meet the accuracy requirements specified in paragraphs (f)(9)(i) and (ii) of this section.

(i) The device must have an accuracy that is traceable to National Institute of Standards and Technology (NIST) standards.

(ii) The device must be at least three times as accurate as the required accuracy for the CPMS.

(g) If flow to a control device could be intermittent, you must install, calibrate, and operate a flow indicator at the inlet or outlet of the control device to identify periods of no flow.

Continuous Compliance Requirements

§ 63.5555 How do I demonstrate continuous compliance with the emission limits, operating limits, and work practice standards?

(a) You must demonstrate continuous compliance with each emission limit, operating limit, and work practice standard in Tables 1 and 2 to this subpart that applies to you according to methods specified in Tables 5 and 6 to this subpart.

(b) You must report each instance in which you were not in continuous compliance (as specified in Tables 5 and 6 to this subpart) with each emission limit, each operating limit, and each work practice standard that apply to you. This includes periods of startup, shutdown, and malfunction. These instances are deviations from the emission limits, operating limits, and work practice standards in this subpart. These deviations must be reported according to the requirements in § 63.5580.

(c) During periods of startup, shutdown, and malfunction, you must operate according to the SSM plan.

(d) Consistent with §§ 63.6(e) and 63.7(e)(1), deviations that occur during a period of startup, shutdown, or malfunction are not violations if you demonstrate to the Administrator's satisfaction that you were operating according to the SSM plan.

§ 63.5560 How do I monitor and collect data to demonstrate continuous compliance?

(a) You must monitor and collect data according to this section.

(b) Except for monitor malfunctions, associated repairs, and required quality assurance or control activities (including, as applicable, calibration checks and required zero and span adjustments), you must monitor continuously (or collect data at all required intervals) at all times that the affected source is operating, including periods of startup, shutdown, and malfunction.

(c) You may not use data recorded during monitoring malfunctions, associated repairs, required quality assurance or control activities, and periods of no flow for all or a portion of an affected source in data averages and calculations used to report emission or operating levels, nor may such data be used in fulfilling a minimum data availability requirement, if applicable. You must use all the data collected during all other periods in assessing the operation of the control device and associated control system.

(d) All terms in this subpart that define a period of time for completing required tasks (e.g., weekly, monthly, quarterly, or annually) refer to the standard calendar periods.

(1) You may change time periods specified in this subpart for completing required tasks by mutual agreement with the Administrator, as specified in subpart A of this part. For example, a period could begin on the compliance date or another date, rather than on the first day of the standard calendar period. For each time period that is changed by agreement, the revised period must remain in effect until it is changed. A new request is not necessary for each recurring period.

(2) Where the period specified for compliance is a standard calendar period, if the initial compliance date occurs after the beginning of the period, then you must comply according to the schedule specified in paragraph (d)(2)(i) or (ii) of this section, as appropriate.

(i) You must comply before the end of the standard calendar period within which the compliance deadline occurs, if there remain at least 3 days for tasks that must be performed weekly, at least 2 weeks for tasks that must be performed monthly, at least 1 month for tasks that must be performed quarterly, or at least 3 months for tasks that must be performed annually; or

(ii) In all instances where a provision of this subpart requires completing a task during each of multiple successive periods, you may perform the required task at any time during the specified period, provided that the task is conducted at a reasonable interval after completion of the task during the previous period.

Notifications, Reports, and Records

§ 63.5575 What notifications must I submit and when?

You must submit each notification in Table 7 to this subpart that applies to you by the date specified in Table 7 to this subpart.

§ 63.5580 What reports must I submit and when?

(a) You must submit each report in Table 8 to this subpart that applies to you.

(b) Unless the Administrator has approved a different schedule for submitting reports under § 63.10, you must submit each compliance report by the date in Table 8 to this subpart and according to the requirements in paragraphs (b)(1) through (5) of this section.

(1) The first compliance report must cover the period beginning on the compliance date that is specified for your affected source in § 63.5495 and ending on June 30 or December 31, whichever date is the first date following the end of the first calendar half after the compliance date that is specified for your source in § 63.5495.

(2) The first compliance report must be postmarked or delivered no later than August 31 or February 28, whichever date follows the end of the first calendar half after the compliance date that is specified for your affected source in § 63.5495.

(3) Each subsequent compliance report must cover the semiannual reporting period from January 1 through June 30 or the semiannual reporting period from July 1 through December 31.

(4) Each subsequent compliance report must be postmarked or delivered no later than August 31 or February 28, whichever date is the first date following the end of the semiannual reporting period.

(5) For each affected source that is subject to permitting regulations pursuant to 40 CFR part 70 or 40 CFR part 71, and if the permitting authority has established dates for submitting semiannual reports pursuant to 40 CFR 70.6(a)(3)(iii)(A) or 40 CFR 71.6(a)(3)(iii)(A), you may submit the first and subsequent compliance reports according to the dates the permitting authority has established instead of according to the dates in paragraphs (b)(1) through (4) of this section.

(c) The compliance report must contain the information in paragraphs (c)(1) through (6) of this section.

(1) Company name and address.

(2) Statement by a responsible official, with that official's name, title, and signature, certifying that, based on information and belief formed after reasonable inquiry, the statements and information in the report are true, accurate, and complete.

(3) Date of report and beginning and ending dates of the reporting period.

(4) If you had a startup, shutdown, or malfunction during the reporting period and you took actions consistent with your startup, shutdown, and malfunction plan, the compliance report must include the information in § 63.10(d)(5)(i).

(5) If there are no deviations from any emission limits, operating limits, or work practice standards that apply to you (see Tables 5 and 6 to this subpart), the compliance report must contain a statement that there were no deviations from the emission limits, operating limits, or work practice standards during the reporting period.

(6) If there were no periods during which the CMS was out-of-control, the compliance report must contain a statement that there were no periods during which the CMS was out-of-control during the reporting period. You must include specifications for out-of-control operation in the quality control plan required under § 63.8(d)(2).

(d) For each deviation from an emission limit or work practice standard that occurs at an affected source where you are not using a CMS to demonstrate continuous compliance with the emission limits or work practice standards in this subpart (see Table 5 to this subpart), the compliance report must contain the information in paragraphs (c)(1) through (4) and (d)(1) and (2) of this section. This includes periods of startup, shutdown, and malfunction.

(1) The total operating time of each affected source during the reporting period.

(2) Information on the number, duration, and cause of deviations (including unknown cause, if applicable), as applicable, and the corrective action taken.

(e) For each deviation from an emission limit or operating limit occurring at an affected source where you are using a CMS to demonstrate continuous compliance with the emission limit or operating limit in this subpart (see Tables 5 and 6 to this subpart), you must include the information in paragraphs (c)(1) through (4) and (e)(1) through (13) of this section. This includes periods of startup, shutdown, and malfunction.

(1) The date and time that each malfunction started and stopped.

(2) The date and time that each CMS was inoperative, except for zero (low-level) and high-level checks.

(3) The date, time, and duration that each CMS was out-of-control.

(4) The date and time that each deviation started and stopped, and whether each deviation occurred during a period of startup, shutdown, or malfunction or during another period.

(5) A summary of the total duration of the deviation during the reporting period and the total duration as a percent of the total source operating time during that reporting period.

(6) A breakdown of the total duration of the deviations during the reporting period into those that are due to startup, shutdown, control equipment problems, process problems, other known causes, and other unknown causes.

(7) A summary of the total duration of CMS downtime during the reporting period and the total duration of CMS downtime as a percent of the total source operating time during that reporting period.

(8) An identification of each HAP that is known to be in the emission stream at the affected source.

(9) A brief description of the process units.

(10) A brief description of the CMS.

(11) The date of the latest CEMS certification or audit or CPMS inspection, calibration, or validation check.

(12) A description of any changes in CMS, processes, or controls since the last reporting period.

(13) The operating day average values of monitored parameters.

(f) If you have obtained a title V operating permit according to 40 CFR part 70 or 40 CFR part 71, you must report all deviations as defined in this subpart in the semiannual monitoring report required by 40 CFR 70.6(a)(3)(iii)(A) or 40 CFR 71.6(a)(3)(iii)(A). If you submit a compliance report according to Table 8 to this subpart along with, or as part of, the semiannual monitoring report required by 40 CFR 70.6(a)(3)(iii)(A) or 40 CFR 71.6(a)(3)(iii)(A), and the compliance report includes all required information concerning deviations from any emission limit, operating limit, or work practice standard in this subpart, then submitting the compliance report will satisfy any obligation to report the same deviations in the semiannual monitoring report. However, submitting a compliance report will not otherwise affect any obligation you may have to report deviations from permit requirements to the permit authority.

§ 63.5585 What records must I keep?

You must keep the records in Table 9 to this subpart that apply to you.

§ 63.5590 In what form and how long must I keep my records?

(a) Your records must be in a form suitable and readily available for expeditious review, according to § 63.10(b)(1).

(b) As specified in § 63.10(b)(1), you must keep each record for 5 years following the date of each occurrence, measurement, maintenance, corrective action, report, or record.

(c) You must keep each record onsite for at least 2 years after the date of each occurrence, measurement, maintenance, corrective action, report, or record, according to § 63.10(b)(1). You can keep the records offsite for the remaining 3 years.

(d) You may keep records in hard copy or computer-readable form including, but not limited to, paper, microfilm, computer, floppy disk, magnetic tape, or microfiche.

Other Requirements and Information

§ 63.5595 What compliance options do I have if part of my affected source is subject to both this subpart and another subpart?

(a) For any Group 1 or Group 2 wastewater stream that is subject to the wastewater provisions in this subpart and the wastewater provisions in 40 CFR parts 260 through 272, you must comply with the requirements of either paragraph (a)(1) or (2) of this section.

(1) You must comply with more stringent control, testing, monitoring, recordkeeping, and reporting requirements that overlap between the provisions of this subpart and the provisions of 40 CFR parts 260 through 272. You must keep a record of the information used to determine which requirements were the most stringent and submit this information if requested by the Administrator.

(2) You must submit, no later than 4 months before the applicable compliance date specified in § 63.5495, a request for a case-by-case determination of requirements. The request must include the information specified in paragraphs (a)(2)(i) and (ii) of this section.

(i) Identification of the wastewater streams that are subject to this subpart and to provisions in 40 CFR parts 260 through 272, determination of the Group 1/Group 2 status of those streams, determination of whether or not those streams are listed or exhibit a characteristic as specified in 40 CFR part 261, and determination of whether the waste management unit is subject to permitting under 40 CFR part 270.

(ii) Identification of the specific control, testing, monitoring, recordkeeping, and reporting requirements that overlap between the provisions of this subject and the provisions of 40 CFR parts 260 through 272.

(b) If any combustion device, recovery device, or recapture device, as defined in § 63.111, subject to this subpart is also subject to the monitoring, recordkeeping, and reporting requirements in 40 CFR part 264, subpart AA or CC, or is subject to monitoring and recordkeeping requirements in 40 CFR part 265, subpart AA or CC, and you comply with the periodic reporting requirements under 40 CFR part 264, subpart AA or CC, that would apply to the device if the affected source had final-permitted status, you may elect to comply either with the monitoring, recordkeeping, and reporting requirements of this subpart, or with the monitoring, recordkeeping, and reporting requirements in 40 CFR parts 264 and/or 265, as described in this paragraph (b), which will constitute compliance with the monitoring, recordkeeping, and reporting requirements of this subpart. You must identify which option has been selected in the Notification of Compliance Status Report required in § 63.5575 and Table 7 to this subpart.

§ 63.5600 What other requirements apply to me?

(a) Table 10 to this subpart shows which provisions of the General Provisions in §§ 63.1 through 63.15 apply to you.

(b) For the purposes of this subpart, the applicable subpart A requirements in Table 10 to this subpart supersede the applicable subpart A requirements in subparts F, G, H, U and UU of this part.

§ 63.5605 Who implements and enforces this subpart?

(a) This subpart can be implemented and enforced by us, the US Environmental Protection Agency (EPA), or a delegated authority, such as your State, local, or tribal agency. If the Administrator has delegated authority to your State, local, or tribal agency, then that agency has the authority to implement and enforce this subpart. You should contact your EPA Regional Office to find out if this subpart is delegated to your State, local, or tribal agency.

(b) In delegating implementation and enforcement authority of this subpart to a State, local, or tribal agency under subpart E of this part, the Administrator keeps the authorities contained in paragraphs (b)(1) through (4) of this section and does not delegate such authorities to a State, local, or tribal agency.

(1) Approval of alternatives to the non-opacity emission limits, operating limits, and work practice standards in § 63.5505(a) through (c) and under § 63.6(g).

(2) Approval of major alternatives to test methods under § 63.7(e)(2)(ii) and (f) and as defined in § 63.90.

(3) Approval of major alternatives to monitoring under § 63.8(f) and as defined in § 63.90.

(4) Approval of major alternatives to recordkeeping and reporting under § 63.10(f) and as defined in § 63.90.

§ 63.5610 What definitions apply to this subpart?

(a) For all affected sources complying with the batch process vent testing provisions in § 63.490(c) and the operating limit provisions in § 63.505(b), the terms used in this subpart and in subpart U of this part are defined in § 63.482 and paragraph (g) of this section.

(b) For all affected sources complying with the closed-vent system and bypass line requirements in § 63.148, the terms used in this subpart and in subpart G of this part are defined in § 63.111 and paragraph (g) of this section.

(c) For all affected sources complying with the heat exchanger system requirements in § 63.104, the terms used in this subpart and in subpart F of this part are defined in § 63.101 and paragraph (g) of this section.

(d) For cellulose ether affected sources complying with the maintenance wastewater, process wastewater, and liquid stream in open system requirements of subparts F and G of this part, the terms used in this subpart and in subparts F and G of this part are defined in §§ 63.101 and 63.111 and paragraph (g) of this section.

(e) For cellulose ether affected sources complying with the equipment leak requirements of subpart H of this part, the terms used in this subpart and in subpart H of this part are defined in § 63.161 and paragraph (g) of this section.

(f) For cellulose ether affected sources complying with the equipment leak requirements of subpart UU of this part, the terms used in this subpart and in subpart UU of this part are defined in § 63.1020 and paragraph (g) of this section.

(g) All other terms used in this subpart have the meaning given them in § 63.2 and this paragraph (g). If a term is defined in § 63.2, 63.101, 63.111, 63.161, or 63.1020 and in this paragraph (g), the definition in this paragraph (g) applies for purposes of this subpart.

Bottoms receiver means a tank that collects distillation bottoms before the stream is sent for storage or for further downstream processing.

Carbon disulfide unloading and storage operation means a system at an affected source that includes unloading of carbon disulfide from a railcar using nitrogen or water displacement and storage of carbon disulfide in a storage vessel using nitrogen or water padding.

Cellophane means a thin, transparent cellulose material, which is manufactured using the viscose process and used in food packaging (e.g., candy, cheese, baked goods), adhesive tapes, and membranes for industrial uses, such as batteries.

Cellophane operation means the collection of the cellophane process unit and any other equipment, such as heat exchanger systems, wastewater and waste management units, or cooling towers, that are not associated with an individual cellophane process unit, but are located at a cellophane operation for the purpose of manufacturing cellophane and are under common control.

Cellophane process unit means all equipment which collectively function to manufacture cellophane and any associated storage vessels, liquid streams in open systems (as defined in § 63.149), and equipment (as defined in § 63.161) that are used in the manufacturing of cellophane.

Cellulose ether means a compound, such as carboxymethyl cellulose, hydroxyethyl cellulose, hydroxypropyl cellulose, methyl cellulose, or hydroxypropyl methyl cellulose, which is manufactured using the cellulose ether process and used mainly as a thickener, viscosifier, or binder in a wide variety of consumer and other products.

Cellulose ether operation means the collection of the cellulose ether process unit and any other equipment, such as heat exchanger systems, wastewater and waste management units, or cooling towers, that are not associated with an individual cellulose ether process unit, but are located at a cellulose ether operation for the purpose of manufacturing a particular cellulose ether and are under common control.

Cellulose ether process means the following:

(1) A manufacturing process that includes the following process steps:

(i) Reaction of cellulose (e.g., wood pulp or cotton linters) with sodium hydroxide to produce alkali cellulose;

(ii) Reaction of the alkali cellulose with a chemical compound(s), such as ethylene oxide, propylene oxide, methyl chloride, or chloroacetic acid, to produce a particular cellulose ether;

(iii) Washing and purification of the cellulose ether; and

(iv) Drying of the cellulose ether.

(2) Solids handling steps downstream of the drying process are not considered part of the cellulose ether process.

Cellulose ether process change means a change to the cellulose ether process that occurred no earlier than January 1992 that allows the recovery of organic HAP, reduction in organic HAP usage, or reduction in organic HAP leaving the reactor. Includes extended cookout.

Cellulose ether process unit means all equipment which collectively function to manufacture a particular cellulose ether and any associated storage vessels, liquid streams in open systems (as defined in § 63.149), and equipment (as defined in § 63.161 or 63.1020) that are used in the manufacturing of a particular cellulose ether.

Cellulose Ethers Production source category means the collection of operations that use the cellulose ether process to manufacture a particular cellulose ether.

Cellulose food casing means a cellulose casing, which is manufactured using the viscose process, used in forming meat products (e.g., hot dogs, sausages) and, in most cases, removed from the meat products before sale.

Cellulose food casing operation means the collection of the cellulose food casing process unit and any other equipment, such as heat exchanger systems, wastewater and waste management units, or cooling towers, that are not associated with an individual cellulose food casing process unit, but are located at a cellulose food casing operation for the purpose of manufacturing cellulose food casings and are under common control.

Cellulose food casing process unit means all equipment which collectively function to manufacture cellulose food casings and any associated storage vessels, liquid streams in open systems (as defined in § 63.149), and equipment (as defined in § 63.161) that are used in the manufacturing of cellulose food casings.

Cellulosic sponge means a porous cellulose product, which is manufactured using the viscose process and used mainly for consumer use (e.g., for cleaning).

Cellulosic sponge operation means the collection of the cellulosic sponge process unit and any other equipment, such as heat exchanger systems, wastewater and waste management units, or cooling towers, that are not associated with an individual cellulosic sponge process unit, but are located at a cellulosic sponge operation for the purpose of manufacturing cellulosic sponges and are under common control.

Cellulosic sponge process unit means all equipment which collectively function to manufacture cellulosic sponges and any associated storage vessels, liquid streams in open systems (as defined in § 63.149), and equipment (as defined in § 63.161) that are used in the manufacturing of cellulosic sponges.

Closed-loop system means a system wherein the emission stream is not normally vented to the atmosphere but is recycled back to the process.

Control technique means any equipment or process control used for capturing, recovering, treating, or preventing HAP emissions. The equipment includes recovery devices and non-recovery control devices, as defined in this paragraph. The process control includes cellulose ether process changes and viscose process changes, as defined in this paragraph.

Deviation means any instance in which an affected source subject to this subpart, or an owner or operator of such a source:

(1) Fails to meet any requirement or obligation established by this subpart, including, but not limited to, any emission limit, operating limit, or work practice standard;

(2) Fails to meet any term or condition that is adopted to implement an applicable requirement in this subpart and that is included in the operating permit for any affected source required to obtain such a permit; or

(3) Fails to meet any emission limit, operating limit, or work practice standard in this subpart during startup, shutdown, or malfunction, regardless of whether or not such failure is permitted by this subpart.

Emission point means an individual process vent, storage vessel, waste management unit, or equipment leak.

Extended cookout (ECO) means a cellulose ether process change that reduces the amount of unreacted ethylene oxide, propylene oxide, methyl chloride, or chloroacetic acid leaving the reactor. This is accomplished by allowing the product to react for a longer time, thereby leaving less unreacted ethylene oxide, propylene oxide, methyl chloride, or chloroacetic acid and reducing emissions of ethylene oxide, propylene oxide, methyl chloride, or chloroacetic acid that might have occurred otherwise.

Miscellaneous Viscose Processes source category means the collection of operations that use the viscose process to manufacture a particular cellulose product. These cellulose products include cellulose food casings, rayon, cellulosic sponges, and cellophane.

Nitrogen storage system means a system of padding the carbon disulfide storage vessels with nitrogen to prevent contact with oxygen.

Nitrogen unloading and storage system means the combination of a nitrogen unloading system for unloading carbon disulfide and a nitrogen storage system for storing carbon disulfide.

Nitrogen unloading system means a system of unloading carbon disulfide from railcars to storage vessels using nitrogen displacement to prevent gaseous carbon disulfide emissions to the atmosphere and to preclude contact with oxygen.

Non-recovery control device means an individual unit of equipment capable of and normally used for the purpose of capturing or treating HAP emissions. Examples of equipment that may be non-recovery control devices include, but are not limited to, biofilters, caustic scrubbers, flares, thermal oxidizers, and water scrubbers.

Oil absorber means a packed-bed absorber that absorbs pollutant vapors using a type of oil (e.g., kerosene) as the absorption liquid.

Onsite means that records are stored at a location within a major source which encompasses the affected source. Onsite includes, but is not limited to, storage at the affected source or process unit to which the records pertain or storage in central files elsewhere at the major source.

Process vent means a point of discharge to the atmosphere (or the point of entry into a control device, if any) of a HAP-containing gas stream from the process operation. Process vents do not include vents with a flow rate less than 0.005 standard cubic meter per minute or with a concentration less than 50 parts per million by volume (ppmv), vents on storage tanks, vents on wastewater emission sources, or pieces of equipment regulated under equipment leak standards.

Rayon means cellulose fibers, which are manufactured using the viscose process and used in the production of either textiles (e.g., apparel, drapery, upholstery) or non-woven products (e.g., feminine hygiene products, wipes, computer disk liners, surgical swabs).

Rayon operation means the collection of the rayon process unit and any other equipment, such as heat exchanger systems, wastewater and waste management units, or cooling towers, that are not associated with an individual rayon process unit, but are located at a rayon operation for the purpose of manufacturing rayon and are under common control.

Rayon process unit means all equipment which collectively function to manufacture rayon and any associated storage vessels, liquid streams in open systems (as defined in § 63.149), and equipment (as defined in § 63.161) that are used in the manufacturing of rayon.

Recovery device means an individual unit of equipment capable of and normally used for the purpose of recovering HAP emissions for fuel value (i.e., net positive heating value), use, reuse, or for sale for fuel value, use, or reuse. Examples of equipment that may be recovery devices include, but are not limited to, absorbers, carbon adsorbers, condensers, oil-water separators or organic-water separators, or organic removal devices such as decanters, strippers, or thin-film evaporation units.

Responsible official means responsible official as defined in 40 CFR 70.2.

Safety device means a closure device such as a pressure relief valve, frangible disc, fusible plug, or any other type of device which functions exclusively to prevent physical damage or permanent deformation to a unit or its air emission control equipment by venting gases or vapors directly to the atmosphere during unsafe conditions resulting from an unplanned, accidental, or emergency event. For the purposes of this subpart, a safety device is not used for routine venting of gases or vapors from the vapor headspace underneath a cover such as during filling of the unit or to adjust the pressure in this vapor headspace in responses to normal daily diurnal ambient temperature fluctuations. A safety device is designed to remain in a closed position during normal operation and open only when the internal pressure, or another relevant parameter, exceeds the device threshold setting applicable to the air emission control equipment as determined by the owner or operator based on manufacturer recommendations, applicable regulations, fire protection and prevention codes, standard engineering codes and practices, or other requirements for the safe handling of flammable, combustible, explosive, reactive, or hazardous materials.

Solvent coating process means a manufacturing process in which cellophane film is coated (e.g., with Saran® or nitrocellulose) to impart moisture impermeability to the film and to make it printable. Both Saran and nitrocellulose use the same solvents—tetrahydrofuran and toluene.

Storage vessel means a tank or other vessel used to store liquids that contain one or more HAP. Storage vessels do not include the following:

(1) Vessels permanently attached to motor vehicles such as trucks, railcars, barges, or ships;

(2) Pressure vessels designed to operate in excess of 204.9 kilopascals (30 pounds per square inch) and without emissions to the atmosphere;

(3) Vessels with capacities smaller than 38 cubic meters (10,000 gallons);

(4) Vessels and equipment storing and/or handling material that contains no HAP or contains HAP as impurities only;

(5) Bottoms receiver tanks;

(6) Surge control vessels;

(7) Wastewater storage vessels; and

(8) Storage vessels assigned to another process unit regulated under another subpart of part 63.

Surge control vessel means feed drums, recycle drums, and intermediate vessels. Surge control vessels are used within a process unit when in-process storage, mixing, or management of flow rates or volumes is needed to assist in production of a product.

Total HAP means the sum of organic HAP emissions measured using EPA Method 18.

Total sulfide means the sum of emissions for carbon disulfide, hydrogen sulfide, and carbonyl sulfide reported as carbon disulfide. Total sulfide, as defined for the purposes of this subpart, does not include other sulfur compounds, such as sulfur dioxide.

Viscose process means the following:

(1) A manufacturing process that includes the following process steps:

(i) Reaction of cellulose (e.g., wood pulp) with sodium hydroxide to produce alkali cellulose;

(ii) Reaction of alkali cellulose with carbon disulfide to produce sodium cellulose xanthate;

(iii) Combination of sodium cellulose xanthate with additional sodium hydroxide to produce viscose solution;

(iv) Extrusion of the viscose into various shapes (e.g., hollow casings, thin fibers, thin sheets, molds);

(v) Regeneration of the cellulose product;

(vi) Washing of the cellulose product; and

(vii) Possibly acid or salt recovery.

(2) The cellulose products manufactured using the viscose process include cellulose food casings, rayon, cellulosic sponges, and cellophane.

Viscose process change means a change to the viscose process that occurred no earlier than January 1992 that allows either the recovery of carbon disulfide or a reduction in carbon disulfide usage in the process.

Wastewater means water that:

(1) Contains either:

(i) An annual average concentration of organic HAP (listed in Table 9 to subpart G of this part) of at least 5 parts per million by weight (ppmw) and has an annual average flow rate of 0.02 liter per minute or greater; or

(ii) An annual average concentration of organic HAP (listed in Table 9 to subpart G of this part) of at least 10,000 ppmw at any flow rate.

(2) Is discarded from a cellulose food casing, rayon, cellulosic sponge, cellophane, or cellulose ether process unit that is part of an affected source. Wastewater is process wastewater or maintenance wastewater.

Water storage system means a system of padding the carbon disulfide storage vessels with water to prevent contact with oxygen. The water, which is saturated with carbon disulfide, is later sent to wastewater treatment.

Water unloading and storage system means the combination of a water unloading system for unloading carbon disulfide and a water storage system for storing carbon disulfide.

Water unloading system means a system of unloading carbon disulfide from railcars to storage vessels using water displacement to prevent gaseous carbon disulfide emissions to the atmosphere and to preclude contact with oxygen.

Work practice standard means any design, equipment, work practice, or operational standard, or combination thereof, that is promulgated pursuant to section 112(h) of the Clean Air Act.

Tables to Subpart UUUU of Part 63

Table 1 to Subpart UUUU of Part 63.—Emission Limits and Work Practice Standards
[As required in § 63.5505(a), you must meet the appropriate emission limits and work practice standards in the following table]
For . . . | at . . . | you must . . .
1. the sum of all viscose process vents | a. each existing cellulose food casing operation | i. reduce total uncontrolled sulfide emissions (reported as carbon disulfide) by at least 25% based on a 6-month rolling average; ii. for each vent stream that you control using a control device, route the vent stream through a closed-vent system to the control device; and iii. comply with the work practice standard for closed-vent systems.
| b. each new cellulose food casing operation | i. reduce total uncontrolled sulfide emissions (reported as carbon disulfide) by at least 75% based on a 6-month rolling average; ii. for each vent stream that you control using a control device, route the vent stream through a closed-vent system to the control device; and iii. comply with the work practice standard for closed-vent systems.
| c. each existing rayon operation | i. (1) reduce total uncontrolled sulfide emissions (reported as carbon disulfide) by at least 35% within 3 years after the effective date based on a 6-month rolling average; (2) for each vent stream that you control using a control device, route the vent stream through a closed-vent system to the control device; and (3) comply with the work practice standard for closed-vent systems; and ii. (1) reduce total uncontrolled sulfide emissions (reported as carbon disulfide) by at least 40% within 8 years after the effective date based on a 6-month rolling average; (2) for each vent stream that you control using a control device, route the vent stream through a closed-vent system to the control device; and (3) comply with the work practice standard for closed-vent systems.
| d. each new rayon operation | i. reduce total uncontrolled sulfide emissions (reported as carbon disulfide) by at least 75% based on a 6-month rolling average; ii. for each vent stream that you control using a control device, route the vent stream through a closed-vent system to the control device; and iii. comply with the work practice standard for closed-vent systems.
| e. each existing or new cellulosic sponge operation | i. reduce total uncontrolled sulfide emissions (reported as carbon disulfide) by at least 75% based on a 6-month rolling average; ii. for each vent stream that you control using a control device, route the vent stream through a closed-vent system to the control device; and iii. comply with the work practice standard for closed-vent systems.
| f. each existing or new cellophane operation | i. reduce total uncontrolled sulfide emissions (reported as carbon disulfide) by at least 75% based on a 6-month rolling average; ii. for each vent stream that you control using a control device, route the vent stream through a closed-vent system to the control device; and iii. comply with the work practice standard for closed-vent systems.
2. the sum of all solvent coating process vents | a. each existing or new cellophane operation | i. reduce uncontrolled toluene emissions by at least 95% based on a 6-month rolling average; ii. for each vent stream that you control using a control device, route the vent stream through a closed-vent system to the control device; and iii. comply with the work practice standard for closed-vent systems.
3. the sum of all cellulose ether process vents | a. each existing or new cellulose ether operation | i. reduce total uncontrolled organic HAP emissions by at least 99%; ii. for each vent stream that you control using a control device, route the vent stream through a closed-vent system to the control device; and iii. comply with the work practice standard for closed-vent systems.
4. closed-loop systems | each existing or new cellulose ether operation | comply by operating the closed-loop system.
5. each carbon disulfide unloading and storage operation | a. each existing or new viscose process affected source | i. reduce uncontrolled carbon disulfide emissions by at least 83% from unloading and storage operations based on a 6-month rolling average if you use an alternative control technique not listed in this table source for carbon disulfide unloading and storage operations; if using a control device to reduce emissions, route emissions through a closed-vent system to the control device; and comply with the work practice standard for closed-vent systems; ii. reduce uncontrolled carbon disulfide emissions by at least 0.14% from viscose process vents based on a 6-month rolling average; for each vent stream that you control using a control device, route the vent stream through a closed-vent system to the control device; and comply with the work practice standard for closed-vent systems; iii. install a nitrogen unloading and storage system (as defined in § 63.5610); or iv. install a nitrogen unloading system (as defined in § 63.5610); reduce uncontrolled carbon disulfide emissions by at least 0.045% from viscose process vents based on a 6-month rolling average; for each vent stream that you control, route the vent stream through a closed-vent to the control device; and comply with the work practice standard for closed-vent systems.
6. each toluene storage vessel | a. each existing or new cellophane operation | i. reduce uncontrolled toluene emissions by at least 95% based on a 6-month rolling average; ii. if using a control device to reduce emissions, route the emissions through a closed-vent system to the control device; and iii. comply with the work practice standard for closed-vent systems.
7. equipment leaks | a. each existing or new cellulose ether operation | i. comply with the applicable equipment leak standards of §§ 63.162 through 63.179, except that references to “process unit” mean “cellulose ether process unit” for the purposes of this subpart; or ii. comply with the applicable equipment leak standards of §§ 63.1021 through 63.1037, except that references to “process unit” mean “cellulose ether process unit” for the purposes of this subpart.
8. all sources of wastewater emissions | each existing or new cellulose ether operation | comply with the applicable wastewater provisions of §§ 63.105 and 63.132 through 63.140.
9. liquid streams in open system 2 | each existing or new cellulose ether operation | comply with the applicable provisions of § 63.149, except that references to “chemical manufacturing process unit” mean “cellulose ether process unit” for the purposes of this subpart.
10. closed-vent system used to route emissions to a control device | each existing or new affected source | conduct annual inspections, repair leaks, and maintain records as specified in § 63.148.
11. closed-vent system containing a bypass line that could divert a vent stream away from a control device, except for equipment needed for safety purposes (described in § 63.148(f)(3)) | each existing or new affected source | i. install, calibrate, maintain, and operate a flow indicator as specified in § 63.148(f)(1); or ii. secure the bypass line valve in the closed position with a car-seal or lock-and-key type configuration and inspect the seal or closure mechanism at least once per month as specified in § 63.148(f)(2).
12. heat exchanger system that cools process equipment or materials in the process unit | each existing or new affected source | monitor and repair the heat exchanger system according to § 63.104(a) through (e), except that references to “chemical manufacturing process unit” mean “cellulose food casing, rayon, cellulosic sponge, cellophane, or cellulose ether process unit” for the purposes of this subpart.

Table 2 to Subpart UUUU of Part 63.—Operating Limits
[As required in § 63.5505(b), you must meet the appropriate operating limits in the following table]
For the following control technique . . . | you must . . .
1. condenser | maintain the daily average condenser outlet gas or condensed liquid temperature no higher than the value established during the compliance demonstration.
2. thermal oxidizer | maintain the daily average thermal oxidizer firebox temperature no lower than the value established during the compliance demonstration.
3. water scrubber | maintain the daily average scrubber pressure drop and scrubber liquid flow rate within the operating values established during the compliance demonstration.
4. caustic scrubber | maintain the daily average scrubber pressure drop, scrubber liquid flow rate, and scrubber liquid pH, conductivity, or alkalinity within the operating values established during the compliance demonstration.
5. flare | maintain the presence of a pilot flame.
6. biofilter | maintain the daily average biofilter inlet gas temperature, biofilter effluent pH, and pressure drop within the operating values established during the compliance demonstration.
7. carbon absorber | maintain the regeneration frequency, total regeneration adsorber stream mass or volumetric flow during carbon bed regeneration, and temperature of the carbon bed after regeneration (and within 15 minutes of completing any cooling cycle(s)) for each regeneration cycle within the values established during the compliance demonstration.
8. oil absorber | maintain the daily average absorption liquid flow, absorption liquid temperature, and steam flow within the values established during the compliance demonstration.
9. any of the control techniques specified in this table | if using a CEMS, maintain the daily average control efficiency of each control device no lower than the value established during the compliance demonstration.
10. any of the control techniques specified in this table | a. if you wish to establish alternative operating parameters, submit the application for approval of the alternative operating parameters no later than the notification of the performance test or CEMS performance evaluation or no later than 60 days prior to any other initial compliance demonstration; b. the application must include: information justifying the request for alternative operating parameters (such as the infeasibility or impracticality of using the operating parameters in this final rule); a description of the proposed alternative control device operating parameters; the monitoring approach; the frequency of measuring and recording the alternative parameters; how the operating limits are to be calculated; and information documenting that the alternative operating parameters would provide equivalent or better assurance of compliance with the standard; c. install, operate, and maintain the alternative parameter monitoring systems in accordance with the application approved by the Administrator; d. establish operating limits during the initial compliance demonstration based on the alternative operating parameters included in the approved application; and
| e. maintain the daily average alternative operating parameter values within the values established during the compliance demonstration.
11. alternative control technique | a. submit for approval no later than the notification of the performance test or CEMS performance evaluation or no later than 60 days prior to any other initial compliance demonstration a proposed site-specific plan that includes: a description of the alternative control device; test results verifying the performance of the control device; the appropriate operating parameters that will be monitored; and the frequency of measuring and recording to establish continuous compliance with the operating limits; b. install, operate, and maintain the parameter monitoring system for the alternative control device in accordance with the plan approved by the Administrator;
| c. establish operating limits during the initial compliance demonstration based on the operating parameters for the alternative control device included in the approved plan; and
| d. maintain the daily average operating parameter values for the alternative control technique within the values established during the compliance demonstration.

Table 3 to Subpart UUUU of Part 63.—Initial Compliance With Emission Limits and Work Practice Standards
[As required in §§ 63.5530(a) and 63.5535(g), you must demonstrate initial compliance with the appropriate emission limits and work practice standards according to the requirements in the following table]
For . . . | at . . . | for the following emission limit or work practice standard . . . | you have demonstrated initial compliance if . . .
1. the sum of all viscose process vents | a. each existing cellulose food casing operation | i. reduce total uncontrolled sulfide emissions (reported as carbon disulfide) by at least 25% based on a 6-month rolling average; ii. for each vent stream that you control using a control device, route the vent stream through a closed-vent system to the control device; and iii. comply with the work practice standard for closed-vent systems | (1) the average uncontrolled total sulfide emissions, measured during the month-long compliance demonstration, are reduced by at least 25%; (2) you have a record of the average operating parameter values over the month-long compliance demonstration during which the average uncontrolled total sulfide emissions were reduced by at least 25%; (3) you prepare a material balance that includes the pertinent data used to determine the percent reduction of total sulfide emissions; and (4) you comply with the initial compliance requirements for closed-vent systems.
| b. each new cellulose food casing operation | i. reduce total uncontrolled sulfide emissions (reported as carbon disulfide) by at least 75% based on a 6-month rolling average; ii. for each vent stream that you control using a control device, route the vent stream through a closed-vent system to the control device; and iii. comply with the work practice standard for closed-vent systems | (1) the average uncontrolled total sulfide emissions, measured during the month-long compliance demonstration, are reduced by at least 75%; (2) you have a record of the average operating parameter values over the month-long compliance demonstration during which the average uncontrolled total sulfide emissions were reduced by at least 75%; (3) you prepare a material balance that includes the pertinent data used to determine the percent reduction of total sulfide emissions; and (4) you comply with the initial compliance requirements for closed-vent systems.
| c. each existing rayon operation | i. reduce total uncontrolled sulfide emissions (reported as carbon disulfide) by at least 35% within 3 years after the effective date based on a 6-month rolling average; for each vent stream that you control using a control device, route the vent stream through a closed-vent system to the control device; and comply with the work practice standard for closed-vent systems; and | (1) the average uncontrolled total sulfide emissions, measured during the month-long compliance demonstration, are reduced by at least 35% within 3 years after the effective date; (2) you have a record of the average operating parameter values over the month-long compliance demonstration during which the average uncontrolled total sulfide emissions were reduced by at least 35%; (3) you prepare a material balance that includes the pertinent data used to determine the percent reduction of total sulfide emissions; and (4) you comply with the initial compliance requirements for closed-vent systems; and
|  | ii. reduce total uncontrolled sulfide emissions (reported as carbon disulfide) by at least 40% within 8 years after the effective date based on a 6-month rolling average; for each vent stream that you control using a control device, route the vent stream through a closed-vent system to the control device; and comply with the work practice standard for closed-vent systems | (1) the average uncontrolled total sulfide emissions, measured during the month-long compliance demonstration, are reduced by at least 40% within 8 years after the effective date; (2) you have a record of the average operating parameter values over the month-long compliance demonstration during which the average uncontrolled total sulfide emissions were reduced by at least 40%; (3) you prepare a material balance that includes the pertinent data used to determine the percent reduction of the total sulfide emissions; and (4) you comply with the initial compliance requirements for closed-vent systems.
| d. each new rayon operation | i. reduce total uncontrolled sulfide emissions (reported as carbon disulfide) by at least 75%; based on a 6-month rolling average; ii. for each vent stream that you control using a control device, route the vent stream through a closed-vent system to the control device; and iii. comply with the work practice standard for closed-vent systems | (1) the average uncontrolled total sulfide emissions, measured during the month-long compliance demonstration, are reduced by at least 75%; (2) you have a record of the average operating parameter values over the month-long compliance demonstration during which the average uncontrolled total sulfide emissions were reduced by at least 75%; (3) you prepare a material balance that includes the pertinent data used to determine the percent reduction of total sulfide missions; and (4) you comply with the initial compliance requirements for closed-vent systems.
| e. each existing or new cellulosic sponge operation | i. reduce total uncontrolled sulfide emissions (reported as carbon disulfide) by at least 75% based on a 6-month rolling average; ii. for each vent stream that you control using a control device, route the vent stream through a closed-vent system to the control device; and iii. comply with the work practice standard for closed-vent systems | (1) the average uncontrolled total sulfide emissions, measured during the month-long compliance demonstration, are reduced by at least 75%; (2) you have a record of the average operating parameter values over the month-long compliance demonstration during which the average uncontrolled total sulfide emissions were reduced by at least 75%; (3) you prepare a material balance that includes the pertinent data used to determine and the percent reduction of total sulfide emissions; and (4) you comply with the initial compliance requirements for closed-vent systems.
| f. each existing or new cellophane operation | i. reduce total uncontrolled sulfide emissions (reported as carbon disulfide) by at least 75% based on a 6-month rolling average; ii. for each vent stream that you control using a control device, route the vent stream through a closed-vent system to the control device; and iii. comply with the work practice standard for closed-vent systems | (1) the average uncontrolled total sulfide emissions, measured during the month-long compliance demonstration, are reduced by at least 75%; (2) you have a record of the average operating parameter values over the month-long compliance demonstration during which the average uncontrolled total sulfide emissions were reduced by at least 75%; (3) you prepare a material balance that includes the pertinent data used to determine the percent reduction of total sulfide emissions; and (4) you comply with the initial compliance requirements for closed-vent systems.
2. the sum of all solvent coating process vents | a. each existing or new cellophane operation | i. reduce uncontrolled toluene emissions by at least 95% based on a 6-month folling average; ii. for each vent stream that you control using a control device, route the vent stream through a closed-vent system to the control device; and iii. comply with the work practice standard for closed-vent systems | 1. the average uncontrolled toluene emissions, measured during the month-long compliance demonstration, are reduced by at least 95%; 2. you have a record of the average operating parameter values over the month-long compliance demonstration during which the average uncontrolled toluene emissions were reduced by at least 95%; 3. you prepare a material balance that includes the pertinent data used to determine the percent reduction of toluene emissions; and 4. you comply with the initial compliance requirements for closed-vent systems.
3. the sum of all cellulose ether process vents | a. each existing or new cellulose ether operation | i. reduce total uncontrolled organic HAP emissions by at least 99%; ii. for each vent stream that you control using a control device, route the vent stream through a closed-vent system to the control device; and iii. comply with the work practice standard for closed-vent systems | (1) average uncontrolled total organic HAP emissions, measured during the 3-hour performance test are reduced by at least 99%; (2) you have a record of the average operating parameter values over the 3-hour performance test during which the average uncontrolled total organic HAP emissions were reduced by at least 99%; (3) you comply with the initial compliance requirements for closed-vent systems; and (4) if you use extended cookout to comply, you measure the HAP charged to the reactor, record the grade of product produced, and then calculate reactor emissions prior to extended cookout by taking a percentage of the total HAP charged, with the percentage determined by the grade of product being produced.
4. closed-loop systems | each existing or new cellulose ether operation | operate and maintain the closed-loop system for cellulose ether operations | you have a record certifying that a closed-loop system is in use for cellulose ether operations.
5. each carbon disulfide unloading and storage operation | a. each existing or new viscose process affected source | i. reduce uncontrolled carbon disulfide emissions by at least 83% from unloading and storage operations based on a 6-month rolling average if you use an alternative control technique not listed in this table for carbon disulfide unloading and storage operations; if using a control device to reduce emissions, route emissions through a closed-vent system to the control device; and comply with the work practice standard for closed-vent systems; | (1) you have a record documenting the 83% reduction in uncontrolled carbon disulfide emissions; and (2) if venting to a control device to reduce emissions, you comply with the initial compliance requirements for closed-vent systems;
|  | ii. reduce uncontrolled carbon disulfide by at least 0.14% from viscose process vents based on a 6-month rolling average; for each vent stream that you control using a control device, route the vent stream through a closed-vent system to the control device; and comply with the work practice standard for closed-vent systems; | (1) you comply with the initial compliance requirements for viscose process vents at existing or new cellulose food casing, rayon, cellulosic sponge, or cellophane operations, as applicable; (2) the 0.14% reduction must be in addition to the reduction already required for viscose process vents at existing or new cellulose food casing, rayon, cellulosic sponge, or cellophane operations, as applicable; and (3) you comply with the initial compliance requirements for closed-vent systems;
|  | iii. install a nitrogen unloading and storage system; or | you have a record certifying that a nitrogen unloading and storage system is in use; or
|  | iv. install a nitrogen unloading system; reduce uncontrolled carbon disulfide by at least 0.045% from viscose process vents based on a 6-month rolling average; for each vent stream that you control using a control device, route the vent stream through a closed-vent system to the control device; and comply with the work practice standard for closed-vent systems | (1) you have a record certifying that a nitrogen unloading system is in use; (2) you comply with the initial compliance requirements for viscose process vents at existing or new cellulose food casing, rayon, cellulosic sponge, or cellophane operations, as applicable; (3) the 0.045% reduction must be in addition to the reduction already required for viscose process vents at cellulose food casing, rayon, cellulosic sponge, or cellophane operations, as applicable; and (4) you comply with the initial compliance requirements for closed-vent systems.
6. each toluene storage vessel | a. each existing or new cellophane operation | i. reduce uncontrolled toluene emissions by at least 95% based on a 6-month rolling average; ii. if using a control device to reduce emissions, route the emissions through a closed-vent system to the control device; and iii. comply with the work practice standard for closed-vent systems | (1) the average uncontrolled toluene emissions, measured during the month-long compliance demonstration, are reduced by at least 95%; (2) you have a record of the average operating parameter values over the month-long compliance demonstration during which the average uncontrolled toluene emissions were reduced by at least 95%; (3) you prepare a material balance that includes the pertinent data used to determine the percent reduction of toluene emissions; and (4) if venting to a control device to reduce emissions, you comply with the initial compliance requirements for closed-vent systems.
7. equipment leaks | a. each existing or new cellulose ether operation | i. comply with the applicable equipment leak standards of §§ 63.162 through 63.179; or | you comply with the applicable requirements described in the Notification of Compliance Status Report provisions in § 63.182(a)(2) and (c)(1) through (3), except that references to the term “process unit” mean “cellulose ether process unit” for the purposes of this subpart; or
|  | ii. comply with the applicable equipment leak standards of §§ 63.1021 through 63.1027 | you comply with the applicable requirements described in the Initial Compliance Status Report provisions of § 63.1039(a), except that references to the term “process unit” mean “cellulose ether process unit” for the purposes of this subpart.
8. all sources of wastewater emissions | each existing or new cellulose ether operation | comply with the applicable wastewater provisions of § 63.105 and §§ 63.132 through 63.140 | you comply with the applicability and Group 1/Group 2 determination provisions of § 63.144 and the initial compliance provisions of §§ 63.105 and 63.145.
9. liquid streams in open systems | each existing or new cellulose ether operation | comply with the applicable provisions of § 63.149, except that references to “chemical manufacturing process unit” mean “cellulose ether process unit” for the purposes of this subpart | you install emission suppression equipment and conduct an initial inspection according to the provisions of to §§ 63.133 through 63.137.
10. closed-vent system used to route emissions to a control device | a. each existing or new affected source | i. conduct annual inspections, repair leaks, and maintain records as specified in § 63.148 | (1) you conduct an initial inspection of the closed-vent system and maintain records according to § 63.148; (2) you prepare a written plan for inspecting unsafe-to-inspect and difficult-to-inspect equipment according to § 63.148(g)(2) and (h)(2); and (3) you repair any leaks and maintain records according to § 63.148.
11. closed-vent system containing a bypass line that could divert a vent stream away from a control device, except for equipment needed for safety purposes (described in § 63.148(f)(3)) | a. each existing or new affected source | i. install, calibrate, maintain, and operate a flow indicator as specified in § 63.148(f)(1); or | you have a record documenting that you installed a flow indicator as specified in Table 1 to this subpart; or
|  | ii. secure the bypass line valve in the closed position with a car-seal or lock-and-key type configuration and inspect the seal or closure mechanism at lease once per month as specified in § 63.148(f)(2) | you have record documenting that you have secured the bypass line valve as specified in Table 1 to this subpart.
12. heat exchanger system that cools process equipment or materials in the process unit | a. each existing or new affected source | i. monitor and repair the heat exchanger system according to § 63.104(a) through (e), except that references to “chemical manufacturing process unit” mean “cellulose food casing, rayon, cellulosic sponge, cellophane, or cellulose ether process unit” for the purposes of this subpart | (1) you determine that the heat exchanger system is exempt from monitoring requirements because it meets one of the conditions in § 63.104(a)(1) through (6), and you document this finding in your Notification of Compliance Status Report; or (2) if your heat exchanger system is not exempt, i. you identify in your Notification of Compliance Status Report the HAP or other representative substance that you will monitor, or ii. you prepare and maintain a site-specific plan containing the information required by § 63.104(c)(1) (i) through (iv) that documents the procedures you will use to detect leaks by monitoring surrogate indicators of the leak.

Table 4 to Subpart UUUU of Part 63.—Requirements for Performance Tests
[As required in §§ 63.5530(b) and 63.5535(a), (b), and (g)(1), you must conduct performance tests, other initial compliance demonstrations, and CEMS performance evaluations and establish operating limits according to the requirements in the following table]
For . . . | at . . . | you must . . . | using . . . | according to the following requirements . . .
1. the sum of all process vents | a. each existing or new affected source | i. select sampling port's location and the number of traverse points; | EPA Method 1 or 1A of 40 CFR part 60, appendix A; § 63.7(d)(1)(i); | sampling sites must be located at the inlet and outlet to each control device;
|  | ii. determine velocity and volumetric flow rate; | EPA Method 2, 2A, 2C, 2D, 2F, or 2G in appendix A to part 60 of this chapter; | you may use EPA Method 2A, 2C, 2D, 2F, or 2G as an alternative to using EPA Method 2, as appropriate;
|  | iii. conduct gas analysis; and | (1) EPA Method 3, 3A, or 3B in appendix A to part 60 of this chapter; or | you may use EPA Method 3A or 3B as an alternative to using EPA Method 3; or
|  |  | (2) ASME PTC 19.10-1981—Part 10; and | you may use ASME PTC 19.10-1981—Part 10 (available for purchase from Three Park Avenue, New York, NY 10016-5990) as an alternative to using EPA Method 3B.
|  | iv. measure moisture content of the stack gas | EPA Method 4 in appendix A to part 60 of this chapter |
2. the sum of all viscose process vents | a. each existing or new viscose process source | i. measure total sulfide emissions | (1) EPA Method 15 in Appendix A to part 60 of this chapter; or | (a) you must conduct testing of emissions at the inlet and outlet of each control device; (b) you must conduct testing of emissions from continuous viscose process vents and combinations of batch and continuous viscose process vents at normal operating conditions, as specified in §§ 63.7(e)(1) and 63.5535; (c) you must conduct testing of emissions from batch viscose process vents as specified in § 63.490(c), except that the emission reductions required for process vents under this subpart supersede the emission reductions required for process vents under subpart U of this part; and (d) you must collect CPMS data during the period of the initial compliance demonstration and determine the CPMS operating limit during the period of the initial compliance demonstration; or
|  |  | (2) carbon disulfide and/or hydrogen sulfide CEMS, as applicable | (a) you must measure emissions at the inlet and outlet of each control device using CEMS; (b) you must install, operate, and maintain the CEMS according to the applicable performance specification (PS-7, PS-8, PS-9, or PS-15) of 40 CFR part 60, appendix B; and (c) you must collect CEMS emissions data at the inlet and outlet of each control device during the period of the initial compliance demonstration and determine the CEMS operating limit during the period of the initial compliance demonstration.
|  |  | 3. the sum of all solvent coating process vents | a. each existing or new cellophane operation i. measure toluene emissions (1) EPA Method 18 in appendix A to part 60 of this chapter; or (a) you must conduct testing of emissions at the inlet and outlet of each control device;
|  |  |  | (b) you may use EPA Method 18 to determine the control efficiency of any control device for organic compounds; for a combustion device, you must use only HAP that are present in the inlet to the control device to characterize the percent reduction across the combustion device;
|  |  |  | (c) you must conduct testing of emissions from continuous solvent coating process vents and combinations of batch and continuous solvent coating process vents at normal operating conditions, as specified in §§ 63.7(e)(1) and 63.5535;
|  |  |  | (d) you must conduct testing of emissions from batch solvent coating process vents as specified in § 63.490(c), except that the emission reductions required for process vents under this subpart supersede the emission reductions required for process vents under subpart U of this part; and
|  |  |  | (e) you must collect CPMS data during the period of the initial compliance demonstration and determine the CPMS operating limit during the period of the initial compliance demonstration; or
|  |  | (2) ASTM D6420-99 | (a) you must conduct testing of emissions at the inlet and outlet of each control device;
|  |  |  | (b) you may use ASTM D6420-99 (available for purchase from at least one of the following addresses: 100 Barr Harbor Drive, West Conshohocken, PA 19428-2959; or University Microfilms International, 300 North Zeeb Road, Ann Arbor, MI 48106) as an alternative to EPA Method 18 only where: the target compound(s) are those listed in Section 1.1 of ASTM D6420-99; and the target concentration is between 150 parts per billion by volume (ppbv) and 100 ppmv; for target compound(s) not listed in Section 1.1 of ASTM D6420-99, but potentially detected by mass spectrometry, the additional system continuing calibration check after each run, as detailed in Section 10.5.3 of the ASTM method, must be followed, met, documented, and submitted with the data report even if there is no moisture condenser used or the compound is not considered water soluble; and for target compound(s) not listed in Section 1.1 of ASTM D6420-99 and not amenable to detection by mass spectrometry, ASTM D6420-99 does not apply;
|  |  |  | (c) you must conduct testing of emissions from continuous solvent coating process vents and combinations of batch and continuous solvent coating process vents at normal operating conditions, as specified in §§ 63.7(e)(1) and 63.5535;
|  |  |  | (d) you must conduct testing of emissions from batch solvent coating process vents as specified in § 63.490(c), except that the emission reductions required for process vents under this subpart supersede the emission reductions required for process vents under subpart U of this part; and
|  |  |  | (e) you must collect CPMS data during the period of the initial compliance demonstration and determine the CPMS operating limit during the period of the initial compliance demonstration.
4. the sum of all cellulose ether process vents | a. each existing or new cellulose ether operation | i. measure total organic HAP emissions | (1) EPA Method 18 in appendix A to part 60 of this chapter; | (a) you must conduct testing of emissions at the inlet and outlet of each control device;
|  |  |  | (b) you may use EPA Method 18 to determine the control efficiency of any control device for organic compounds; for a combustion device, you must use only HAP that are present in the inlet to the control device to characterize the percent reduction across the combustion device;
|  |  |  | (c) you must conduct testing of emissions from continuous cellulose ether process vents and combinations of batch and continuous cellulose ether process vents at normal operating conditions, as specified in §§ 63.7(e)(1) and 63.5535;
|  |  |  | (d) you must conduct testing of emissions from batch cellulose ether process vents as specified in § 63.490(c), except that the emission reductions required for process vents under this subpart supersede the emission reductions required for process vents under subpart U of this part; and
|  |  |  | (e) you must collect CPMS data during the period of the initial performance test and determine the CPMS operating limit during the period of the initial performance test;
|  |  | (2) ASTM D6420-99 | (a) you must conduct testing of emissions at the inlet and outlet of each control device;
|  |  |  | (b) you may use ASTM D6420-99 (available for purchase from at least one of the following addresses: 100 Barr Harbor Drive, West Conshohocken, PA 19428-2959; or University Microfilms International, 300 North Zeeb Road, Ann Arbor, MI (48106) as an alternative to EPA Method 18 only where: the target compound(s) are those listed in Section 1.1 of ASTM D6420-99; and the target concentration is between 150 ppbv and 100 ppmv; for target compound(s) not listed in Section 1.1 of ASTM D6420-99, but pontentially detected by mass spectrometry, the additional system continuing calibration check after each run, as detailed in Section 10.5.3 of the ASTM method, must be followed, met, documented, and submitted with the data report even if there is no moisture condenser used or the compound is not considered water soluble; and for target compound(s) not listed in Section 1.1 of ASTM D6420-99 and not amenable to detection by mass spectrometry, ASTM D6420-99 does not apply;
|  |  |  | (c) you must conduct testing of emissions from continuous cellulose ether process vents and combinations of batch and continuous cellulose ether process vents at normal operating conditions, as specified in §§ 63.7(e)(1) and 63.5535;
|  |  |  | (d) you must conduct testing of emissions from batch cellulose ether process vents as specified in § 63.490(c), except that the emission reductions required for process vents under this subpart supersede the emission reductions required for process vents under subpart U of this part; and
|  |  |  | (e) you must collect CPMS data during the period of the initial performance test and determine the CPMS operating limit during the period of the initial performance test;
|  |  | (3) EPA Method 25 in appendix A to part 60 of this chapter; or | (a) you must conduct testing of emissions at the inlet and outlet of each control device;
|  |  |  | (b) you may use EPA Method 25 to determine the control efficiency of combustion devices for organic compounds; you may not use EPA Method 25 to determine the control efficiency of noncombustion control devices;
|  |  |  | (c) you must conduct testing of emissions from continuous cellulose ether process vents and combinations of batch and continuous cellulose ether process vents at normal operating conditions, as specified in §§ 63.7(e)(1) and 63.5535; (d) you must conduct testing of emissions from batch cellulose ether process vents as specified in § 63.490(c), except that the emission reductions required for process vents under this subpart supersede the emission reductions required for process vents under subpart U of this part; and
|  |  |  | (e) you must collect CPMS data during the period of the initial performance test and determine the CPMS operating limit during the period of the initial performance test; or
|  |  | (4) EPA Method 25A in appendix A to part 60 of this chapter | (a) you must conduct testing of emissions at the inlet and outlet of each control device;
|  |  |  | (b) you may use EPA Method 25A if: an exhaust gas volatile organic matter concentration of 50 ppmv or less is required in order to comply with the emission limit; the volatile organic matter concentration at the inlet to the control device and the required level of control are such as to result in exhaust volatile organic matter concentrations of 50 ppmv or less; or because of the high control efficiency of the control device, the anticipated volatile organic matter concentration at the control device exhaust is 50 ppmv or less, regardless of the inlet concentration;
|  |  |  | (c) you must conduct testing of emissions from continuous cellulose ether process vents and combinations of batch and continuous cellulose ether process vents at normal operating conditions, as specified in §§ 63.7(e)(1) and 63.5535;
|  |  |  | (d) you must conduct testing of emissions from batch cellulose ether process vents as specified in § 63.490(c), except that the emission reductions required for process vents under this subpart supersede the emission reductions required for process vents under subpart U of this part; and
|  |  |  | (e) you must collect CPMS data during the period of the initial performance test and determine the CPMS operating limit during the period of the initial performance test.
5. each toluene storage vessel | a. each existing or new cellophane operation | i. measure toluene emissions | (1) EPA Method 18 in appendix A to part 60 of this chapter; or | (a) if venting to a control device to reduce emissions, you must conduct testing of emissions at the inlet and outlet of each control device;
|  |  |  | (b) you may use EPA Method 18 to determine the control efficiency of any control device for organic compounds; for a combustion device, you must use only HAP that are present in the inlet to the control device to characterize the percent reduction across the combustion device;
|  |  |  | (c) you must conduct testing of emissions from continuous storage vessel vents and combinations of batch and continuous storage vessel vents at normal operating conditions, as specified in §§ 63.7(e)(1) and 63.5535 for continuous process vents;
|  |  |  | (d) you must conduct testing of emissions from batch storage vessel vents as specified in § 63.490(c) for batch process vents, except that the emission reductions required for process vents under this subpart supersede the emission reductions required for process vents under subpart U of this part; and
|  |  |  | (e) you must collect CPMS data during the period of the initial compliance demonstration and determine the CPMS operating limit during the period of the initial compliance demonstration; or
|  |  | (2) ASTM D6420-99 | (a) if venting to a control device to reduce emissions, you must conduct testing of emissions at the inlet and outlet of each control device;
|  |  |  | (b) you may use ASTM D6420-99 (available for purchase from at least one of the following addresses: 100 Barr Harbor Drive, West Conshohocken, PA 19428-2959; or University Microfilms International, 300 North Zeeb Road, Ann Arbor, MI 48106) as an alternative to EPA Method 18 only where: the target compound(s) are those listed in Section 1.1 of ASTM D6420-99, and the target concentration is between 150 ppbv and 100 ppmv; for target compound(s) not listed in Section 1.1 of ASTM D6420- 99, but potentially detected by mass spectrometry, the additional system continuing calibration check after each run, as detailed in Section 10.5.3 of the ASTM method, must be followed, met, documented, and submitted with the data report even if there is no moisture condenser used or the compound is not considered water soluble; and for target compound(s) not listed in Section 1.1 of ASTM D6420-99 and not amenable to detection by mass spectrometry, ASTM D6420-99 does not apply;
|  |  |  | (c) you must conduct testing of emissions from continuous storage vessel vents and combinations of batch and continuous storage vessel vents at normal operating conditions, as specified in §§ 63.7(e)(1) and 63.5535 for continuous process vents;
|  |  |  | (d) you must conduct testing of emissions from batch storage vessel vents as specified in § 63.490(c) for batch process vents, except that the emission reductions required for process vents under this subpart supersede the emission reductions required for process vents under subpart U of this part; and
|  |  |  | (e) you must collect CPMS data during the period of the initial compliance demonstration and determine the CPMS operating limit during the period of the initial compliance demonstration.
6. the sum of all process vents controlled using a flare | each existing or new affected source | measure visible emissions | EPA Method 22 in appendix A to part 60 of this chapter | you must conduct the flare visible emissions test according to § 63.11(b).
7. equipment leaks | a. each existing or new cellulose ether operation | i. measure leak rate | (1) applicable equipment leak test methods in § 63.180; or | you must follow all requirements for the applicable equipment leak test methods in § 63.180; or
|  |  | (2) applicable equipment leak test methods in 63.1023 | you must follow all requirements for the applicable equipment leak test methods in § 63.1023.
8. all sources of wastewater emissions | a. each existing or new cellulose ether operation | i. measure wastewater HAP emissions | (1) applicable wastewater test methods and procedures in §§ 63.144 and 63.145; or | You must follow all requirements for the applicable wastewater test methods and procedures in §§ 63.144 and 63.145; or
|  |  | (2) applicable wastewater test methods and procedures in §§ 63.144 and 63.145, using ASTM D5790-95 as an alternative to EPA Method 624 in appendix A to part 163 of this chapter | you must follow all requirements for the applicable waste water test methods and procedures in §§ 63.144 and 63.145, except that you may use ASTM D5790-95 (available for purchase from at least one of the following addresses: 100 Barr Harbor Drive, West Conshohocken, PA 19428-2959; or University Microfilms International, 300 North Zeeb Road, Ann Arbor, MI 48106) as an alternative to EPA Method 624, under the condition that this ASTM method be used with the sampling procedures of EPA Method 25D or an equivalent method.
9. any emission point | a. each existing or new affected source using a CEMS to demonstrate compliance | i. conduct a CEMS performance evaluation | (1) applicable requirements in § 63.8 and applicable performance specification (PS-7, PS-8, PS-9, or PS-15) in appendix B to part 60 of this chapter | (a) you must conduct the CEMS performance evaluation during the period of the initial compliance demonstration according to the applicable requirements in § 63.8 and the applicable performance specification (PS-7, PS-8, PS-9, or PS-15) of 40 CFR part 60, appendix B; (b) you must install, operate, and maintain the CEMS according to the applicable performance specification (PS-7, PS-8, PS-9, or PS-15) of 40 CFR part 60, appendix B; and (c) you must collect CEMS emissions data at the inlet and outlet of each control device during the period of the initial compliance demonstration and determine the CEMS operating limit during the period of the initial compliance demonstration.

Table 5 to Subpart UUUU of Part 63.—Continuous Compliance With Emission Limits and Work Practice Standards
[As required in § 63.5555(a), you must demonstrate continuous compliance with the appropriate emission limits and work practice standards according to the requirements in the following table]
For . . . | at . . . | for the following emission limit or work practice standard . . . | you must demonstrate continuous compliance by . . .
1. the sum of all viscose process vents | a. each existing or new viscose process affected source | i. reduce total uncontrolled sulfide emissions (reported as carbon disulfide) by at least the specified percentage based on a 6-month rolling average; ii. for each vent stream that you control using a control device, route the vent stream through a closed-vent system to the control device; and c. comply with the work practice standard for closed-vent systems | (1) maintaining a material balance that includes the pertinent data used to determine the percent reduction of total sulfide emissions; (2) documenting the percent reduction of total sulfide emissions using the pertinent data from the material balance; and (3) complying with the continuous compliance requirements for closed-vent systems.
2. the sum of all solvent coating process vents | a. each existing or new cellophane operation | i. reduce uncontrolled toluene emissions by at least 95% based on a 6-month rolling average; ii. for each vent stream that you control using a control device, route the vent stream through a closed-vent system to the control device; and iii. comply with the work practice standard for closed-vent systems | (1) maintaining a material balance that includes the pertinent data used to determine the percent reduction of toluene emissions; (2) documenting the percent reduction of toluene emissions using the pertinent data from the material balance; and (3) complying with the continuous compliance requirements for closed-vent systems.
3. the sum of all cellulose ether process vents | a. each existing or new cellulose ether operation | i. reduce total uncontrolled organic HAP emissions by at least 99%; ii. for each vent stream that you control using a control device, route the vent stream through a closed-vent system to the control device; and iii. comply with the work practice standard for closed-vent systems | (1) complying with the continuous compliance requirements for closed-vent systems; and (2) if using extended cookout to comply, monitoring reactor charges and keeping records to show that extended cookout was employed.
4. closed-loop systems | each existing or new cellulose either operation | operate and maintain a closed-loop system | keeping a record certifying that a closed-loop system is in use for cellulose ether operations.
5. each carbon disulfide unloading and storage operation | a. each existing or new viscose process affected source | i. (1) reduce uncontrolled carbon disulfide emissions by at least 83% based on a 6-month rolling average if you use an alternative control technique not listed in this table for carbon disulfide unloading and storage operations; (2) if using a control device to reduce emissions, route emissions through a closed-vent system to the control device; and (3) comply with the work practice standard for closed-vent systems; | (a) keeping a record documenting the 83% reduction in carbon disulfide emissions; and (b) if venting to a control device to reduce emissions, complying with the continuous compliance requirements for closed-vent systems;
|  | ii. (1) reduce total uncontrolled sulfide emissions by at least 0.14% from viscose process vents based on a 6-month rolling average; (2) for each vent stream that you control using a control device, route the vent stream through a closed-vent system to the control device; and (3) comply with the work practice standard for closed-vent systems; | (a) maintaining a material balance that includes the pertinent data used to determine the percent reduction of total sulfide emissions; (b) documenting the percent reduction of total sulfide emissions using the pertinent data from the material balance; and (c) complying with the continuous compliance requirements for closed-vent systems;
|  | iii. install a nitrogen unloading and storage system; or | Keeping a record certifying that a nitrogen unloading and storage system is in use; or
|  | iv. (1) install a nitrogen unloading system; (2) reduce total uncontrolled sulfide emissions by at least 0.045% from viscose process vents based on a 6-month rolling average; (3) for each vent stream that you control using a control device, route the vent stream through a closed-vent system to the control device; and (4) comply with the work practice standard for closed-vent systems | (a) keeping a record certifying that a nitrogen unloading system is in use; (b) maintaining a material balance that includes the pertinent data used to determine the percent reduction of total sulfide emissions; (c) documenting the percent reduction of total sulfide emissions using the pertinent data from the material balance; and (d) complying with the continuous compliance requirements for closed-vent systems.
6. each toluene storage vessel | a. each existing or new cellophane operation | i. reduce uncontrolled toluene emissions by at least 95% based on a 6-month rolling average; ii. if using a control device to reduce emissions, route the emissions through a closed-vent system to the control device; and iii. comply with the work practice standard for closed-vent systems | (1) maintaining a material balance that includes the pertinent data used to determine the percent reduction of toluene emissions; (2) documenting the percent reduction of toluene emissions using the pertinent data from the material balance; and (3) if venting to a control device to reduce emissions, complying with the continuous compliance requirements for closed-vent systems.
7. equipment leaks | a. each existing or new cellulose ether operation | i. applicable equipment leak standards of §§ 63.162 through 63.179; or ii. applicable equipment leak standards of §§ 63.1021 through 63.1037 | complying with the applicable equipment leak continuous compliance provisions of §§ 63.162 through 63.179; or complying with the applicable equipment leak continuous compliance provisions of §§ 63.1021 through 63.1037.
8. all sources of wasstewater emissions | each existing or new cellulose ether operation | applicable wastewater provisions of § 63.105 and §§ 63.132 through 63.140 | complying with the applicable wastewater continuous compliance provisions of §§ 63.105, 63.143, and 63.148.
9. liquid streams in open systems | each existing or new cellulose ether operation | comply with the applicable provisions of § 63.149, except that references to “chemical manufacturing process unit” mean “cellulose ether process unit” for the purposes of this subpart | conducting inspections, repairing failures, documenting delay of repair, and maintaining records of failures and corrective actions according to §§ 63.133 through 63.137.
10. closed-vent system used to route emissions to a control device | each existing or new affected source | conduct annual inspections, repair leaks, maintain records as specified in § 63.148 | conducting the inspections, repairing leaks, and maintaining records according to § 63.148.
11. closed-vent system containing a bypass line that could divert a vent stream away from a control device, except for equipment needed for safety purposes (described in § 63.148(f)(3) | a. each existing or new affected source | i. install, calibrate, maintain, and operate a flow indicator as specified in § 63.148(f)(1); or | (1) taking readings from the flow indicator at least once every 15 minutes; (2) maintaining hourly records of flow indicator operation and detection of any diversion during the hour, and (3) recording all periods when the vent stream is diverted from the control stream or the flow indicator is not operating; or
|  | ii. secure the bypass line valve in the closed position with a car-seal or lock-and-key type configuration and inspect the seal or mechanism at least once per month as specified in § 63.148(f)(2) | (1) maintaining a record of the monthly visual inspection of the seal or closure mechanism for the bypass line; and (2) recording all periods when the seal mechanism is broken, the bypass line valve position has changed, or the key for a lock-and-key type lock has been checked out.
12. heat exchanger system that cools process equipment or materials in the process unit | a. each existing or new affected source | i. monitor and repair the heat exchanger system according to § 63.104(a) through (e), except that references to “chemical manufacturing process unit” mean “cellulose food casing, rayon, cellulosic sponge, cellophane, or cellulose ether process unit” for the purposes of this subpart | (1) monitoring for HAP compounds, other substances, or surrogate indicators at the frequency specified in § 63.104(b) or (c); (2) repairing leaks within the time period specified in § 63.104(d)(1); (3) confirming that the repair is successful as specified in § 63.104(d)(2); (4) following the procedures in § 63.104(e) if you implement delay of repair; and (5) recording the results of inspections and repair according to § 63.104(f)(1).

Table 6 to Subpart UUUU of Part 63.—Continuous Compliance With Operating Limits
[As required in § 63.5555(a), you must demonstrate continuous compliance with the appropriate operating limits according to the requirements in the following table:]
For the following control technique . . . | for the following operating limit . . . | you must demonstrate continuous compliance by . . .
1. condenser | maintain the daily average condenser outlet gas or condensed liquid temperature no higher than the value established during the compliance demonstration | collecting the condenser outlet gas or condensed liquid temperature data according to § 63.5545; reducing the condenser outlet gas temperature data to daily averages; and maintaining the daily average condenser outlet gas or condensed liquid temperature no higher than the value established during the compliance demonstration.
2. thermal oxidizer | maintain the daily average thermal oxidizer firebox temperature no lower than the value established during the compliance demonstration | collecting the thermal oxidizer firebox temperature data according to § 63.5545; reducing the thermal oxidizer firebox temperature data to daily averages; and maintaining the daily average thermal oxidizer firebox temperature no lower than the value established during the compliance demonstration.
3. water scrubber | maintain the daily average scrubber pressure drop and scrubber liquid flow rate within the values established during the compliance demonstration | collecting the scrubber pressure drop and scrubber liquid flow rate data according to § 63.5545; reducing the scrubber parameter data to daily averages; and maintaining the daily scrubber parameter values within the values established during the compliance demonstration.
4. caustic scrubber | maintain the daily average scrubber pressure drop, scrubber liquid flow rate, and scrubber liquid pH, conductivity, or alkalinity within the values established during the compliance demonstration | collecting the scrubber pressure drop, scrubber liquid flow rate, and scrubber liquid pH, conductivity, or alkalinity data according to § 63.5545; reducing the scrubber parameter data to daily averages; and maintaining the daily scrubber parameter values within the values established during the compliance demonstration.
5. flare | maintain the presence of a pilot flame | collecting the pilot flame data according to § 63.5545; and maintaining the presence of the pilot flame.
6. biofilter | maintain the daily average biofilter inlet gas temperature, biofilter effluent pH, and pressure drop within the values established during the compliance demonstration | collecting the biofilter inlet gas temperature, biofilter effluent pH, and biofilter pressure drop data according to § 63.5545; reducing the biofilter parameter data to daily averages; and maintaining the daily biofilter parameter values within the values established during the compliance demonstration.
7. carbon absorber | maintain the regeneration frequency, total regeneration stream mass or volumetric flow during carbon bed regeneration and temperature of the carbon bed after regeneration (and within 15 minutes of completing any cooling cycle(s)) for each regeneration cycle within the values established during the compliance demonstration | collecting the data on regeneration frequency, total regeneration stream mass or volumetric flow during carbon bed regeneration and temperature of the carbon bed after regeneration (and within 15 minutes of completing any cooling cycle(s)) for each regeneration cycle according to § 63.5545; and maintaining carbon absorber parameter values for each regeneration cycle within the values established during the compliance demonstration.
8. oil absorber | maintain the daily average absorption liquid flow, absorption liquid temperature, and steam flow within the values established during the compliance demonstration | collecting the absorption liquid flow, absorption liquid temperature, and steam flow data according to § 63.5545; reducing the oil absorber parameter data to daily averages; and maintaining the daily oil absorber parameter values within the values established during the compliance demonstration.
9. any of the control techniques specified in this table | if using a CEMS, maintain the daily average control efficiency for each control device no lower than the value established during the compliance demonstration | collecting CEMS emissions data at the inlet and outlet of each control device according to § 63.5545; determining the control efficiency values for each control device using the inlet and outlet CEMS emissions data; reducing the control efficiency values for each control device to daily averages; and maintaining the daily average control efficiency for each control device no lower than the value established during the compliance demonstration.

Table 7 to Subpart UUUU of Part 63.—Notifications
[As required in §§ 63.5490(c)(4), 63.5530(c), 63.5575, and 63.5595(b), you must submit the appropriate notifications specified in the following table]
If you . . . | then you must . . .
1. are required to conduct a performance test | submit a notification of intent to conduct a performance test at least 60 calendar days before the performance test is scheduled to begin, as specified in §§ 63.7(b)(1) and 63.9(e).
2. wish to use an alternative monitoring method | submit a request to use alternative monitoring method no later than the notification of the initial performance test or CEMS performance evaluation or 60 days prior to any other initial compliance demonstration, as specified in § 63.8(f)(4).
3. start up your affected source before June 11, 2002 | submit an initial notification no later than 120 days after June 11, 2002, as specified in § 63.9(b)(2).
4. start up your new or reconstructed source on or after June 11, 2002 | submit an initial notification no later than 120 days after you become subject to this subpart, as specified in § 63.9(b)(3).
5. cannot comply with the relevant standard by the applicable compliance date | submit a request for extension of compliance no later than 120 days before the compliance date, as specified in §§ 63.9(c) and 63.6(i)(4).
6. are subject to special requirements as specified in § 63.6(b)(3) and (4) | notify the Administrator of your compliance obligations no later than the initial notification dates established in § 63.9(b) for new sources not subject to the special provisions, as specified in § 63.9(d).
7. are required to conduct visible emission observations to determine the compliance of flares as specified in § 63.11(b)(4) | notify the Administrator of the anticipated date for conducting the observations specified in § 63.6(h)(5), as specified in §§ 63.6(h)(4) and 63.9(f).
8. are required to conduct a performance test or other initial compliance demonstration as specified in Table 3 to this subpart | a. submit a Notification of Compliance Status Report, as specified in § 63.9(h); and b. submit the Notification of Compliance Status Report, including the performance test, CEMS performance evaluation, and any other initial compliance demonstration results within 240 calendar days following the compliance date specified in § 63.5495.
9. comply with the equipment leak requirements of subpart H of this part for existing or new cellulose ether affected sources | comply with the notification requirements specified in § 63.182(a)(1) and (2), (b), and (c)(1) through (3) for equipment leaks, with the Notification of Compliance Status Reports required in subpart H included in the Notification of Compliance Status Report required in this subpart.
10. comply with the equipment leak requirements of subpart UU of this part for existing or new cellulose ether affected sources | comply with the notification requirements specified in § 63.1039(a) for equipment leaks, with the Notification Compliance Status Reports required in subpart UU of this part included in the Notification of Compliance Status Report required in this subpart.
11. comply with the wastewater requirements of subparts F and G of this part for existing or new cellulose ether affected sources | comply with the notification requirements specified in §§ 63.146(a) and (b), 63.151, and 63.152(a)(1) through (3) and (b)(1) through (5) for wastewater, with the Notification of Compliance Status Reports required in subpart G of this part included in the Notification of Compliance Status Report required in this subpart.

Table 8 to Subpart UUUU of Part 63.—Reporting Requirements
[As required in § 63.5580, you must submit the appropriate reports specified in the following table]
You must submit a compliance report, which must contain the following information . . . | and you must submit the report . . .
1. if there are no deviations from any emission limit, operating limit, or work practice standard during the reporting period, then the report must contain the information specified in § 63.5580(c); | semiannually as specified in § 63.5580(b).
2. if there were no periods during which the CMS was out-of-control, then the report must contain a statement that there were no periods during which the CMS was out-of-control during the reporting period; you must develop and include specifications for out-of-control operation in the CMS quality control plan required under § 63.8(d)(2);
3. if there is a deviation from any emission limit, operating limit, or work practice standard during the reporting period, then the report must contain the information specified in § 63.5580(c) and (d);
4. if there were periods during which the CMS was out-of-control, then the report must contain the information specified in § 63.5580(e);
5. if you had a startup, shutdown, or malfunction during the reporting period and you took actions consistent with your SSM plan, then the report must contain the information specified in § 63.10(d)(5)(i);
6. if you had a startup, shutdown, or malfunction during the reporting period and you took actions that are not consistent with your SSM plan, then the report must contain the information specified in § 63.10(d)(5)(ii);
7. the report must contain any change in information already provided, as specified in § 63.9(j);
8. for cellulose ether affected sources complying with the equipment leak requirements of subpart H of this part, the report must contain the information specified in § 63.182(a)(3) and (6) and (d)(2) through (4);
9. for cellulose ether affected sources complying with the equipment leak requirements of subpart UU of this part, the report must contain the information specified in § 63.1039(b);
10. for cellulose ether affected sources complying with the wastewater requirements of subparts F and G of this part, the report must contain the information specified in §§ 63.146(c) through (e) and 63.152(a)(4) and (5) and (c) through (e);
11. for affected sources complying with the closed-vent system provisions in § 63.148, the report must contain the information specified in § 63.148(j)(1);
12. for affected sources complying with the bypass line provisions in § 63.148(f), the report must contain the information specified in § 63.148(j)(2) and (3);
13. for affected sources invoking the delay of repair provisions in § 63.104(e) for heat exchanger systems, the next compliance report must contain the information in § 63.104(f)(2)(i) through (iv); if the leak remains unrepaired, the information must also be submitted in each subsequent compliance report until the repair of the leak is reported; and
14. for storage vessels subject to the emission limits and work practice standards in Table 1 to Subpart UUUU, the report must contain the periods of planned routine maintenance during which the control device does not comply with the emission limits or work practice standards in Table 1 to this subpart

Table 9 to Subpart UUUU of Part 63.—Recordkeeping Requirements
[As required in § 63.5585, you must keep the appropriate records specified in the following table]
If you operate . . . | then you must keep . . . | and the record(s) must contain . . .
1. an existing or new affected source | a copy of each notification and report that you submitted to comply with this subpart | all documentation supporting any Initial Notification or Notification of Compliance Status Report that you submitted, according to the requirements in § 63.10(b)(2)(xiv), and any compliance report required under this subpart.
2. an existing or new affected source | a. the records in § 63.6(e)(3)(iii) through (iv) related to startup, shutdown, and malfunction | i. SSM plan; ii. when actions taken during a startup, shutdown, or malfunction are consistent with the procedures specified in the SSM plan, records demonstrating that the procedures specified in the plan were followed; iii. records of the occurrence and duration of each startup, shutdown, or malfunction; and iv. when actions taken during a startup, shutdown, or malfunction are not consistent with the procedures specified in the SSM plan, records of the actions taken for that event.
3. an existing or new affected source | a. a site-specific monitoring plan | i. information regarding the installation of the CMS sampling source probe or other interface at a measurement location relative to each affected process unit such that the measurement is representative of control of the exhaust emissions (e.g., on or downstream of the last control device); ii. performance and equipment specifications for the sample interface, the pollutant concentration or parametric signal analyzer, and the data collection and reduction system; iii. performance evaluation procedures and acceptance criteria (e.g., calibrations); iv. ongoing operation and maintenance procedures in accordance with the general requirements of §§ 63.8(c)(1), (3), and (4)(ii) and 63.5580(c)(6); v. ongoing data quality assurance procedures in accordance with the general requirements of § 63.8(d)(2); and vi. ongoing recordkeeping and reporting procedures in accordance with the general requirements of §§ 63.10(c), (e)(1), and (e)(2)(i) and 63.5585.
4. an existing or new affected source | records of performance tests and CEMS performance evaluations, as required in § 63.10(b)(2)(viii) and any other initial compliance demonstrations | all results of performance tests, CEMS performance evaluations, and any other initial compliance demonstrations, including analysis of samples, determination of emissions, and raw data.
5. an existing or new affected source | a. records for each CEMS | i. records described in § 63.10(b)(2)(vi) through (xi); ii. previous (superseded) versions of the performance evaluation plan as required in § 63.8(d)(3); iii. request for alternatives to relative accuracy test for CEMS as required in § 63.8(f)(6)(i); iv. records of the date and time that each deviation started and stopped, and whether the deviation occurred during a period of startup, shutdown, or malfunction or during another period; and v. records required in Table 6 to Subpart UUUU to show continuous compliance with the operating limit.
6. an existing or new affected source | a. records for each CPMS | i. records required in Table 6 to Subpart UUUU to show continuous compliance with each operating limit that applies to you; and ii. results of each CPMS calibration, validation check, and inspection required by § 63.5545(b)(4).
7. an existing or new cellulose ether affected ether source | records of closed-loop systems | records certifying that a closed-loop system is in use for cellulose ether operations.
8. an existing or new viscose process affected source | records of nitrogen unloading and storage systems or nitrogen unloading systems | records certifying that a nitrogen unloading and storage system or nitrogen unloading system is in use.
9. an existing or new viscose process affected source | records of material balances | all pertinent data from the material balances used to estimate the 6-month rolling average percent reduction in HAP emissions.
10. an existing or new viscose process affected source | records of calculations | documenting the percent reduction in HAP emissions using pertinent data from the material balances.
11. an existing or new cellulose ether affected source | a. extended cookout records | i. the amount of HAP charged to the reactor; ii. the grade of product produced; iii. the calculated amount of HAP remaining before extended cookout; and iv. information showing that extended cookout was employed.
12. an existing or new cellulose ether affected source | a. equipment leak records | i. the records specified in § 63.181 for equipment leaks; or ii. the records specified in 63.1038 for equipment leaks.
13. an existing or new cellulose ether affected source | wastewater records | the records specified in §§ 63.105, 63.147, and 63.152(f) and (g) for wastewater.
14. an existing or new affected source | closed-vent system records | the records specified in § 63.148(i).
15. an existing or new affected source | a. bypass line records | i. hourly records of flow indicator operation and detection of any diversion during the hour and records of all periods when the vent stream is diverted from the control stream or the flow indicator is not operating; or ii. the records of the monthly visual inspection of the seal or closure mechanism and of all periods when the seal mechanism is broken, the bypass line valve position has changed, or the key for a lock-and-key type lock has been checked out and records of any car-seal that has broken.
16. an existing or new affected source | heat exchanger system records | records of the results of inspections and repair according to source § 63.104(f)(1).
17. an existing or new affected source | control device maintenance records | records of planned routine maintenance for control devices used to comply with the percent reduction emission limit for storage vessels in Table 1 to Subpart UUUU.
18. an existing or new affected source | safety device records | a record of each time a safety device is opened to avoid unsafe conditions according to § 63.5505(d).

Table 10 to Subpart UUUU of Part 63.—Applicability of General Provisions to Subpart UUUU
[As required in §§ 63.5515(h) and 63.5600, you must comply with the appropriate General Provisions requirements specified in the following table]
Citation | Subject | Brief description | Applies to Subpart UUUU
§ 63.1 | Applicability | Initial applicability determination; applicability after standard established; permit requirements; extensions, notifications | Yes.
§ 63.2 | Definitions | Definitions for part 63 standards | Yes.
§ 63.3 | Units and Abbreviations | Units and abbreviations for part 63 standards | Yes.
§ 63.4 | Prohibited Activities | Prohibited activities; compliance date; circumvention, severability | Yes.
§ 63.5 | Construction and Reconstruction | Applicability; applications; approvals | Yes.
§ 63.6(a) | Applicability | General provisions apply unless compliance extension; general provisions apply to area sources that become major | Yes.
§ 63.6(b)(1) through(4) | Compliance Dates for New and Reconstructed sources | Standards apply at effective date; 3 years after effective date; upon startup; 10 years after construction or reconstruction commences for CAA section 112(f) | Yes.
§ 63.6(b)(5) | Notification | Must notify if commenced construction or reconstruction after proposal | Yes.
§ 63.6(b)(6) | [Reserved]
§ 63.6(b)(7) | Compliance Dates for New and Reconstructed Area Sources That Become Major | Area sources that become major must comply with major source and standards immediately upon becoming major, regardless of whether required to comply when they were an area source | Yes.
§ 63.6(c)(1) and (2) | Compliance Dates for Existing Sources | Comply according to date in subpart, which must be no later than 3 years after effective date; for CAA section 112(f) standards, comply within 90 days of effective date unless compliance extension | Yes, except that existing rayon operations are given 8 years to comply with 40% reduction emission limit, as specified in § 63.5495(b)(2)(iii).
§ 63.6(c)(3) and (4) | [Reserved]
§ 63.6(c)(5) | Compliance Dates for Existing Area Sources That Become Major | Area sources that become major must comply with major source standards by date indicated in subpart or by equivalent time period (e.g., 3 years) | Yes.
§ 63.6(d) | [Reserved]
§ 63.6(e)(1) and (2) | Operation and Maintenance | Operate to minimize emissions at all times; correct malfunctions as soon as practicable; operation and maintenance requirements independently enforceable; information Administrator will use to determine if operation and maintenance requirements were met | Yes.
§ 63.6(e)(3) | Startup, Shutdown, and Malfunction Plan | Requirement for startup, shutdown, and malfunction and SSM plan; content of SSM plan | Yes.
§ 63.6(f)(1) | Compliance Except During SSM | You must comply with emission standards at all times except during SSM | Yes.
§ 63.6(f)(2) and (3) | Methods for Determining Compliance | Compliance based on performance test, operation and maintenance plans, records, inspection | Yes.
§ 63.6(g)(1) through (3) | Alternative Standard | Procedures for getting an alternative standard | Yes.
§ 63.6(h) | Opacity and Visible Emission (VE) Standards | Requirements for opacity and visible emission limits | Yes, but only for flares for which EPA Method 22 observations are required under § 63.11(b).
§ 63.6(i)(1) through (14) | Compliance Extension | Procedures and criteria for Administrator to grant compliance extension | Yes.
§ 63.6(j) | Presidential Compliance Exemption | President may exempt source category from requirement to comply with subpart | Yes.
§ 63.7(a)(1) and (2) | Performance Test Dates | Dates for conducting initial performance test; testing and other compliance demonstrations; must conduct 180 days after first subject to subpart | Yes.
§ 63.7(a)(3) | Section 114 Authority | Administrator may require a performance test under CAA Section 114 at any time | Yes.
§ 63.7(b)(1) | Notification of Performance Test | Must notify Administrator 60 days before the test | Yes.
§ 63.7(b)(2) | Notification of Rescheduling | If rescheduling a performance test is necessary, must notify Administrator 5 days before scheduled date of rescheduled test | Yes.
§ 63.7(c) | Quality Assurance and Test Plan | Requirement to submit site-specific test plan 60 days before the test or on date Administrator agrees with; test plan approval procedures; performance audit requirements; internal and external QA procedures for testing | No.
§ 63.7(d) | Testing Facilities | Requirements for testing facilities | Yes.
§ 63.7(e)(1) | Conditions for Conducting Performance Tests | Performance tests must be conducted under representative conditions; cannot conduct performance tests during SSM; not a violation to exceed standard during SSM | Yes, except that performance tests for batch process vents must be conducted under other conditions, as specified in Table 4 to this subpart.
§ 63.7(e)(2) | Conditions for Conducting Performance Tests | Must conduct according to this subpart and EPA test methods unless Administrator approves alternative | Yes.
§ 63.7(e)(3) | Test Run Duration | Must have three test runs of at least 1 hour each; compliance is based on arithmetic mean of three runs; conditions when data from an additional test run can be used | Yes.
§ 63.7(f) | Alternative Test Method | Procedures by which Administrator can grant approval to use an alternative test method | Yes.
§ 63.7(g) | Performance Test Data Analysis | Must include raw data in performance test report; must submit performance test data 60 days after end of test with the Notification of Compliance Status Report; keep data for 5 years | Yes.
§ 63.7(h) | Waiver of Tests | Procedures for Administrator to waive performance test | Yes.
§ 63.8(a)(1) | Applicability of Monitoring Requirements | Subject to all monitoring requirements in standard | Yes.
§ 63.8(a)(2) | Performance Specifications | Performance specifications in Appendix B of 40 CFR part 60 apply | Yes.
§ 63.8(a)(3) | [Reserved]
§ 63.8(a)(4) | Monitoring with Flares | Unless your subpart says otherwise, the requirements for flares in § 63.11 apply | Yes.
§ 63.8(b)(1) | Monitoring | Must conduct monitoring according to standard unless Administrator approves alternative | Yes.
§ 63.8(b)(2) and (3) | Multiple Effluents and Multiple Monitoring Systems | Specific requirements for installing monitoring systems; must install on each effluent before it is combined and before it is released to the atmosphere unless Administrator approves otherwise; if more than one monitoring system on an emission point, must report all monitoring system results, unless one monitoring system is a backup | Yes.
§ 63.8(c)(1) | Monitoring System Operation and Maintenance | Maintain monitoring system in a manner consistent with good air pollution control practices | Yes.
§ 63.8(c)(1)(i) | Routine and Predictable SSM | Follow the SSM plan for routine repairs; keep parts for routine repairs readily available; reporting requirements for SSM when action is described in SSM plan | Yes.
§ 63.8(c)(1)(ii) | SSM Not in SSM plan | Reporting requirements for SSM when action is not described in SSM plan | Yes.
§ 63.8(c)(1)(iii) | Compliance with Operation and Maintenance Requirements | How Administrator determines if source complying with operation and maintenance requirements; review of source operation and maintenance procedures, records; manufacturer's instructions, recommendations; inspection | Yes.
§ 63.8(c)(2) and (3) | Monitoring System Installation | Must install to get representative emission of parameter measurements; must verify operational status before or at performance test | Yes.
§ 63.8(c)(4) | Continuous Monitoring System (CMS) Requirements | CMS must be operating except during breakdown, out-of control, repair, maintenance, and high-level calibration drifts | No. Replaced with language in § 63.5560.
§ 63.8(c)(4)(i) and (ii) | Continuous Monitoring System (CMS) Requirements | Continuous opacity monitoring systems (COMS) must have a minimum of one cycle of sampling and analysis for each successive 10-second period and one cycle of data recording for each successive 6-minute period; CEMS must have a minimum of one cycle of operation for each successive 15-minute period | Yes, except that § 63.8(c)(4)(i) does not apply because subpart UUUU does not require COMS.
§ 63.8(c)(5) | COMS Minimum Procedures | COMS minimum procedures | No. Subpart UUUU does not require COMS.
§ 63.8(c)(6) | CMS Requirements | Zero and high level calibration check requirements; out-of-control periods | No. Replaced with language in § 63.5545.
§ 63.8(c)(7) and (8) | CMS Requirements | Out-of-control periods, including reporting | No. Replaced with language in § 63.5580(c)(6).
§ 63.8(d) | CMS Quality Control | Requirements for CMS quality control, including calibration, etc.; must keep quality control plan on record for 5 years; keep old versions for 5 years after revisions | No, except for requirements in § 63.8(d)(2).
§ 63.8(e) | CMS Performance Evaluation | Notification, performance evaluation test plan, reports | Yes, except that § 63.8(e)(5)(ii) does not apply because subpart UUUU does not require COMS.
§ 63.8(f)(1) through (5) | Alternative Monitoring Method | Procedures for Administrator to approve alternative monitoring | Yes, except that no site-specific test plan is required. The request to use an alternative monitoring method must be submitted with the notification of performance test or CEMS performance evaluation or 60 days prior to any initial compliance demonstration.
§ 63.8(f)(6) | Alternative to Relative Accuracy Test | Procedures for Administrator to approve alternative relative accuracy tests for CEMS | Yes.
§ 63.8(g)(1) through (4) | Data Reduction | COMS 6-minute averages calculated over at least 36 evenly spaced data points; CEMS 1-hour averages computed over at least four equally spaced data points; data that cannot be used in average | No. Replaced with language in § 63.5545(e).
§ 63.8(g)(5) | Data Reduction | Data that cannot be used in computing averages for CEMS and COMS | No. Replaced with language in § 63.5560(b).
§ 63.9(a) | Notification Requirements | Applicability and State delegation | Yes.
§ 63.9(b)(1) through (5) | Initial Notifications | Submit notification subject 120 days after effective date; notification of intent to construct or reconstruct; notification of commencement of construction or reconstruction; notification of startup; contents of each | Yes.
§ 63.9(c) | Request for Compliance Extension | Can request if cannot comply by date or if installed BACT/LAER | Yes.
§ 63.9(d) | Notification of Special Compliance Requirements for New Source | For sources that commence construction between proposal and promulgation and want to comply 3 years after effective date | Yes.
§ 63.9(e) | Notification of Performance Test | Notify Administrator 60 days prior | Yes.
§ 63.9(f) | Notification of VE or Opacity Test | Notify Administrator 30 days prior | Yes, but only for flares for which EPA Method 22 observations are required as part of a flare compliance assessment.
§ 63.9(g) | Additional Notifications When Using CMS | Notification of performance evaluation; notification using COMS data; notification that exceeded criterion for relative accuracy | Yes, except that § 63.9(g)(2) does not apply because subpart UUUU does not require COMS.
§ 63.9(h)(1) through (6) | Notification of Compliance Status Report | Contents; due 60 days after end of performance test or other compliance demonstration, except for opacity or VE, which are due 30 days after; when to submit to Federal vs. State authority | Yes, except that Table 7 to this subpart specifies the submittal date for the notification. The contents of the notification will also include the results of EPA Method 22 observations required as part of a flare compliance assessment.
§ 63.9(i) | Adjustment of Submittal Deadlines | Procedures for Administrator to approve change in when notifications must be submitted | Yes.
§ 63.9(j) | Change in Previous Information | Must submit within 15 days after the change | Yes, except that the notification must be submitted as part of the next semiannual compliance report, as specified in Table 8 to this subpart.
§ 63.10(a) | Recordkeeping and Reporting | Applies to all, unless compliance extension; when to submit to Federal vs. State authority; procedures for owners of more than one source | Yes.
§ 63.10(b)(1) | Recordkeeping and Reporting | General requirements; keep all records readily available; keep for 5 years | Yes.
§ 63.10(b)(2)(i) through (iv) | Records Related to Startup, Shutdown, and Malfunction | Occurrence of each of operation (process equipment); occurrence of each malfunction of air pollution equipment; maintenance on air pollution control equipment; actions during startup, shutdown, and malfunction | Yes.
§ 63.10(b)(2)(vi), (x), and (xi) | CMS Records | Malfunctions, inoperative, out-of-control; calibration checks, adjustments, maintenance | Yes.
§ 63.10(b)(2)(vii) and (ix) | Records | Measurements to demonstrate compliance with emission limits; performance test, performance evaluation, and VE observation results; measurements to determine conditions of performance tests and performance evaluations | Yes, including results of EPA Method 22 observations required as part of a flare compliance assessment.
§ 63.10(b)(2)(xii) | Records | Records when under waiver | Yes.
§ 63.10(b)(2)(xiii) | Records | Records when using alternative to relative accuracy test | Yes.
§ 63.10(b)(2)(xiv) | Records | All documentation supporting Initial Notification and Notification of Compliance Status Report | Yes.
§ 63.10(b)(3) | Records | Applicability determinations | Yes.
§ 63.10(c)(1) through (6), (9) through (15) | Records | Additional records for CMS | Yes.
§ 63.10(c)(7) and (8) | Records | Records of excess emissions and parameter monitoring exceedances for CMS | No. Replaced with language in Table 9 to this subpart.
§ 63.10(d)(1) | General Reporting Requirements | Requirement to report | Yes.
§ 63.10(d)(2) | Report of Performance Test Results | When to submit to Federal or State authority | Yes, except that Table 7 to this subpart specifies the submittal date for the Notification of Compliance Status Report.
§ 63.10(d)(3) | Reporting Opacity or VE Observations | What to report and when | Yes, but only for flares for which EPA Method 22 observations are required as part of a flare compliance assessment.
§ 63.10(d)(4) | Progress Reports | Must submit progress reports on schedule if under compliance extension | Yes.
§ 63.10(d)(5) | Startup, Shutdown, and Malfunction Reports | Contents and submission | Yes, except that the immediate SSM report must be submitted as part of the next semiannual compliance report, as specified in Table 8 to this subpart.
§ 63.10(e)(1) and (2) | Additional CMS Reports | Must report results for each CEMS on a unit; written copy of performance evaluation; three copies of COMS performance evaluation | Yes, except that § 63.10(e)(2)(ii) does not apply because subpart UUUU does not require COMS.
§ 63.10(e)(3) | Reports | Excess emission reports | No. Replaced with language in § 63.5580.
§ 63.10(e)(3)(i) through (iii) | Reports | Schedule for reporting excess emissions and parameter monitor exceedance (now defined as deviations) | No. Replaced with language in § 63.5580.
§ 63.10(e)(3)(iv) through (v) | Excess Emissions Reports | Requirement to revert to quarterly submission if there is an excess emissions and parameter monitor exceedance (now defined as deviations); provision to request semiannual reporting after compliance for 1 year; submit report by 30th day following end of quarter or calendar half; if there has not been an exceedance or excess emission (now defined as deviations), report contents is a statement that there have been no deviations | No. Replaced with language in § 63.5580.
§ 63.10(e)(3)(iv) and (v) | Excess Emissions Reports | Must submit report containing all of the information in § 63.10(c)(5) through (13), § 63.8(c)(7) and (8) | No. Replaced with language in § 63.5580.
§ 63.10(e)(3)(vi) through (viii) | Excess Emissions Report and Summary Report | Requirements for reporting excess emissions for CMS (now called deviations); requires all of the information in § 63.10(c)(5) through (13), § 63.8(c)(7) and (8) | No. Replaced with language in § 63.5580.
§ 63.10(e)(4) | Reporting COMS data | Must submit COMS data with performance test data | No. Subpart UUUU does not require COMS.
§ 63.10(f) | Waiver for Recordkeeping or Reporting | Procedures for Administrator to waive | Yes.
§ 63.11 | Flares | Requirements for flares | Yes.
§ 63.12 | Delegation | State authority to enforce standards | Yes.
§ 63.13 | Addresses | Addresses where reports, notifications, and requests are sent | Yes.
§ 63.14 | Incorporation by Reference | Test methods incorporated by reference | Yes.
§ 63.15 | Availability of Information | Public and confidential information | Yes.

[FR Doc. 02-12770 Filed 6-10-02; 8:45 am]

BILLING CODE 6560-50-P